DEPARTMENT OF ENERGY

10 CFR Part 431

[EERE-2017-BT-STD-0048]

RIN 1904-AE38

Energy Conservation Program: Test Procedure and Labeling Requirements for Dedicated-Purpose Pool Pump Motors

AGENCY: Office of Energy Efficiency and Renewable Energy, Department of Energy.

ACTION: Notice of proposed rulemaking and request for comment.

SUMMARY: The U.S. Department of Energy (“DOE”) is proposing to establish a test procedure and an accompanying labeling requirement for dedicated-purpose pool pump (“DPPP”) motors. Specifically, DOE is proposing to incorporate by reference an industry standard pertaining to DPPP definitions and marking requirements; require the use of an industry testing standard for testing the energy efficiency of DPPP motors; and to establish a labeling requirement that would specify information to be included on the permanent nameplate, catalogs, and marketing materials of DPPP motors. DOE is seeking comment from interested parties on the proposal.

DATES: DOE will accept comments, data, and information regarding this proposal no later than November 19, 2020. DOE will hold a webinar on this proposed test procedure on October 20, 2020 from 1 p.m. to 4 p.m. See section V, “Public Participation,” for details.

ADDRESSES: Interested persons are encouraged to submit comments using the Federal eRulemaking Portal at http://www.regulations.gov. Follow the instructions for submitting comments. Alternatively, interested persons may submit comments, identified by docket number EERE-2017-BT-STD-0048, by any of the following methods:

(1) Federal eRulemaking Portal: http://www.regulations.gov. Follow the instructions for submitting comments.

(2) Email: DPPMotors2017STD0048@ee.doe.gov. Include the docket number EERE-2017-BT-STD-0048 or regulatory information number (RIN) 1904-AE38 in the subject line of the message.

(3) Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

(4) Hand Delivery/Courier: Appliance and Equipment Standards Program, U.S. Department of Energy, Building Technologies Office, 950 L'Enfant Plaza SW, Suite 600, Washington, DC 20024. Telephone: (202) 287-1445. If possible, please submit all items on a CD, in which case it is not necessary to include printed copies.

No telefacsimilies (faxes) will be accepted. For detailed instructions on submitting comments and additional information on the rulemaking process, see section V.A of this document.

Docket: The docket, which includes Federal Register notices, webinar attendee lists and transcripts (if a webinar is held), comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2017-BT-STD-0048. The docket web page contains instructions on how to access all documents, including public comments, in the docket. See section V.A for information on how to submit comments through http://www.regulations.gov.

Written comments regarding the burden-hour estimates or other aspects of the collection-of-information requirements contained in this proposed rule may be submitted to the Office of Energy Efficiency and Renewable Energy following the instructions at https://www.reginfo.gov.

FOR FURTHER INFORMATION CONTACT: Mr. Jeremy Dommu, U.S. Department of Energy, Office of Energy Efficiency and Renewable Energy, Building Technologies Office, EE-2J, 1000 Independence Avenue SW, Washington, DC 20585-0121. Telephone: (202) 586-9870. Email ApplianceStandardsQuestions@ee.doe.gov.

Ms. Amelia Whiting, U.S. Department of Energy, Office of the General Counsel, GC-33, 1000 Independence Avenue SW, Washington, DC 20585-0121. Telephone: (202) 586-2588. Email: amelia.whiting@hq.doe.gov.

For further information on how to submit a comment, or review other public comments and the docket, contact the Appliance and Equipment Standards Program staff at (202) 287-1445 or by email: ApplianceStandardsQuestions@ee.doe.gov.

SUPPLEMENTARY INFORMATION: DOE proposes to incorporate by reference the following industry standards into 10 CFR part 431:

CSA C747-09 (R2014), “Energy Efficiency Test Methods for Small Motors”.

Copies of CSA C747-09, can be obtained from the Canadian Standards Association (“CSA”), Sales Department, 5060 Spectrum Way, Suite 100, Mississauga, Ontario, L4W 5N6, Canada, 1-800-463-6727, or http://www.shopcsa.ca/

UL 1004-10:2019, “Outline of Investigation for Pool Pump Motors”.

Copies of UL 1004-2019, can be obtained from Underwriters Laboratories (“UL”), 333 Pfingsten Road, Northbrook, Illinois, 60062 or https://www.shopulstandards.com/ProductDetail.aspx?UniqueKey=36019.

For a further discussion of these standards, see section IV.N.

Table of Contents

I. Authority and Background

A. Authority

1. Test Procedure

2. Labeling Requirement

B. Background

II. Synopsis of the Notice of Proposed Rulemaking

III. Discussion

A. Scope of Applicability

B. Definitions

C. Test Procedures

D. Labeling and Disclosure Requirement

1. Energy Efficiency Nameplate Label

2. Energy Efficiency Disclosure

3. UL 1004-10:2019 Statement

4. Statutory Requirements for Label

E. Reporting

F. Test Procedure and Labeling Costs, Harmonization, and Other Topics

1. Test Procedure and Labeling Costs and Impact

2. Harmonization With Industry Standards

3. Other Test Procedure Topics

G. Compliance and Effective Dates

H. Consultation With the Federal Trade Commission

IV. Procedural Issues and Regulatory Review

A. Review Under Executive Order 12866

B. Review Under Executive Orders 13771 and 13777

C. Review Under the Regulatory Flexibility Act

D. Review Under the Paperwork Reduction Act of 1995

E. Review Under the National Environmental Policy Act of 1969

F. Review Under Executive Order 13132, “Federalism”

G. Review Under Executive Order 12988, “Civil Justice Reform”

H. Review Under the Unfunded Mandates Reform Act of 1995

I. Review Under the Treasury and General Government Appropriations Act, 1999

J. Review Under Executive Order 12630

K. Review Under Treasury and General Government Appropriations Act, 2001

L. Review Under Executive Order 13211

M. Review Under Section 32 of the Federal Energy Administration Act of 1974

N. Description of Materials Incorporated by Reference

V. Public Participation

A. Submission of Comments

B. Issues on Which DOE Seeks Comment

VI. Approval of the Office of the Secretary

I. Authority and Background

Electric motors are included in the list of “covered equipment” for which DOE is authorized to establish and amend energy conservation standards, test procedures, and labeling requirements. (42 U.S.C. 6311)(1)(A)). Electric motors include dedicated-purpose pool pump motors (“DPPP motors” or “pool pump motors”), the subject of this rulemaking.¹ The following sections discuss DOE's authority to establish a test procedure, a labeling requirement for DPPP motors, and relevant background information regarding DOE's consideration of a test procedure and labeling requirement for this equipment.

¹ An electric motor is defined as “a machine that converts electrical power into rotational mechanical power.” 10 CFR 431.12.

A. Authority

The Energy Policy and Conservation Act, as amended (“EPCA”),² among other things, authorizes DOE to regulate the energy efficiency of a number of consumer products and certain industrial equipment. (42 U.S.C. 6291-6317) Title III, Part C ³ of EPCA, added by Public Law 95-619, Title IV, § 441(a), established the Energy Conservation Program for Certain Industrial Equipment, which sets forth a variety of provisions designed to improve energy efficiency. This equipment includes those electric motors that are DPPP motors, the subject of this document. (42 U.S.C. 6311(1)(A))

² All references to EPCA in this document refer to the statute as amended through America's Water Infrastructure Act of 2018, Public Law 115-270 (October 23, 2018).

³ For editorial reasons, upon codification in the U.S. Code, Part C was redesignated Part A-1.

The energy conservation program under EPCA consists essentially of four parts: (1) Testing, (2) labeling, (3) Federal energy conservation standards, and (4) certification and enforcement procedures. Relevant provisions of EPCA specifically include definitions (42 U.S.C. 6311), energy conservation standards (42 U.S.C. 6313), test procedures (42 U.S.C. 6314), labeling provisions (42 U.S.C. 6315), and the authority to require information and reports from manufacturers (42 U.S.C. 6316). Federal energy efficiency requirements for covered equipment established under EPCA generally supersede State laws and regulations concerning energy conservation testing, labeling, and standards. (42 U.S.C. 6316(a) and (b); 42 U.S.C. 6297) In this NOPR, DOE is proposing to establish a test procedure based on an industry testing standard for testing the energy efficiency of certain DPPP motors; and to establish a labeling requirement that would specify information to be included on the permanent nameplate, catalogs, and marketing materials of these DPPP motors.

1. Test Procedure

Under 42 U.S.C. 6314, EPCA outlines the criteria and procedures DOE must follow in prescribing test procedures for covered equipment. The test procedure shall be reasonably designed to produce test results which reflect energy efficiency, energy use, and estimated operating costs of a type of industrial equipment (or class thereof) during a representative average use cycle (as determined by the Secretary), and shall not be unduly burdensome to conduct. (42 U.S.C. 6314(a)(2)) Before issuing a final test procedure, the Secretary shall publish the proposed test procedure in the Federal Register and afford interested persons an opportunity (of not less than 45 days' duration) to present oral and written data, views, and arguments on the proposed test procedures. (42 U.S.C. 6314(b))

2. Labeling Requirement

When the Secretary has issued a test procedure under section 6314 of EPCA for a specific class of industrial equipment, the Secretary shall also prescribe a labeling rule for that equipment. (42 U.S.C. 6315(a)). The labeling rule must disclose the energy efficiency of the equipment as determined in accordance with the applicable test procedure. (42 U.S.C. 6315(b)). The rule prescribing a label may also include such requirements as the Secretary determines are likely to assist purchasers in making purchasing decisions including: (1) Directions for the display of the label; (2) a requirement to display on the label information related to energy efficiency or energy consumption, which may include instructions for maintenance and repair of the covered equipment, as necessary, to provide adequate information to purchasers; and (3) requirements that printed matter displayed or distributed with the equipment at the point of sale also include the information required to be placed on the label. (42 U.S.C. 6315(b) and 42 U.S.C. 6315(c))

EPCA establishes specific requirements for the labeling of classes of equipment, including electric motors, for which test procedures have been established. (42 U.S.C. 6315(a), (b) and (d)) Further, the labeling rule shall provide that the labeling of any electric motor manufactured after the 12-month period beginning on the date the Secretary prescribes such labeling rules, shall: (1) Indicate the energy efficiency of the motor on the permanent nameplate attached to such motor; (2) prominently display the energy efficiency of the motor in equipment catalogs and other material used to market the equipment; and (3) include such other markings as the Secretary determines necessary solely to facilitate enforcement of the standards established for electric motors under section 6313 of this title. (42 U.S.C. 6315(d))

Prior to prescribing any labeling rule, EPCA sets out certain criteria that must be met. Specifically, to establish a labeling requirement, DOE must determine that: (1) Labeling in accordance with section 6315 is technologically and economically feasible with respect to any particular equipment class; (2) significant energy savings will likely result from such labeling; and (3) labeling in accordance with section 6315 is likely to assist consumers in making purchasing decisions. (42 U.S.C. 6315(h))

Before prescribing any labeling rule for covered equipment, the Secretary must publish the proposed labeling rule in the Federal Register and afford interested persons an opportunity (of not less than 45 days) to present oral and written data, views, and arguments on the proposed rules. (42 U.S.C. 6315(g)(1)) Also, before prescribing any labeling rule, the Secretary shall consult with, and obtain the written views of, the Federal Trade Commission (“FTC”) with respect to such rule. (42 U.S.C. 6315(f)) The FTC shall promptly provide such written views upon the request of the Secretary. (Id.) A labeling rule must take effect within three months after the date of prescription of such rule, except that such rule may take effect not later than six months after such date of prescription if the Secretary determines that such extension is necessary to allow persons subject to the labeling requirement adequate time to come into compliance with the rule. (42 U.S.C. 6315(g)(2))

DOE is publishing this notice of proposed rulemaking (“NOPR”) pursuant to its authority under EPCA.

B. Background

DPPP motors are electric motors, which are defined as machines that convert electrical power into rotational mechanical power. 10 CFR 431.12. DOE has established test procedures, labeling requirements, and energy conservation standards for certain electric motors (10 CFR part 431 subpart B), but those requirements do not apply to DPPP motors subject to the proposed labeling requirements. Currently, DPPP motors that would be subject to the proposed labeling requirements are not subject to any Federal energy conservation standards, test procedures, or labeling requirements because they do not fall within any of the specific classes of electric motors that are currently regulated by DOE. ⁴ However, DPPP motors are electric motors and, therefore, are and have been among the types of industrial equipment for which Congress has authorized DOE to establish applicable regulations under EPCA without need for DOE to undertake any additional prior administrative action.

⁴ The current energy conservation standards at 10 CFR 431.425 apply to electric motors that satisfy nine criteria listed at 10 CFR 431.425(g), subject to the exemptions listed at 10 CFR 431.25(l). The nine criteria are as follows: (1) Are single-speed, induction motors; (2) are rated for continuous duty (MG1) operation or for duty type S1 (IEC); (3) contain a squirrel-cage (MG1) or cage (IEC) rotor; (4) operate on polyphase alternating current 60-hertz sinusoidal line power; (5) are rated 600 volts or less; (6) have a 2-, 4-, 6-, or 8-pole configuration; (7) are built in a three digit or four-digit NEMA frame size (or IEC metric equivalent), including those designs between two consecutive NEMA frame sizes (or IEC metric equivalent), or an enclosed 56 NEMA frame size (or IEC metric equivalent); (8) produce at least one horsepower (0.746 kW) but not greater than 500 horsepower (373 kW), and; (9) meet all of the performance requirements of one of the following motor types: A NEMA Design A, B, or C motor or an IEC Design N or H motor. The exemptions listed at 10 CFR 431.25(l) are: (1) Air-over electric motors; (2) component sets of an electric motor; (3) liquid-cooled electric motors; (4) submersible electric motors; and (5) inverter-only electric motors.

As a general matter, DOE notes that 42 U.S.C. 6297, as applied to certain industrial equipment through 42 U.S.C. 6316(a), provides that Federal preemption applies to testing and labeling requirements of equipment covered under EPCA.⁵ See 42 U.S.C. 6297(a). Federal preemption also generally applies to energy use and energy efficiency or water use of covered products both before and after Federal energy conservation standards become effective. See 42 U.S.C. 6296(b)-(c).

⁵ Both pumps (such as DPPPs) and electric motors are treated as covered industrial equipment under EPCA, thus providing the legal basis for DOE's authority to regulate these types of equipment. See 42 U.S.C. 6311(1).

Electric motors are covered equipment under EPCA to which preemption applies by virtue of Congress having included such motors in the statute. See National Energy Conservation Policy Act, Public Law 95-619, Sec. 441 (Nov. 9, 1978) (defining electric motors as covered equipment); Energy Policy Act of 1992, Public Law 102-486, Sec. 122 (October 24, 1992) (defining the term “electric motor”); and Energy Independence and Security Act, Public Law 110-140), Sec. 313 (removing the statutory definition of “electric motor”). DOE has actively regulated the energy efficiency and related test procedure and labeling requirements for electric motors since the 1990s. See, e.g. 64 FR 54114 (October 5, 1999) (implementing energy conservation standards and test procedures established by EPCA). The regulatory definition adopted by DOE for the term “electric motor” encompasses any machine that converts electrical power into rotational mechanical power, see 10 CFR 431.12. Motors subject to that definition are electric motors regardless of whether DOE has established an energy conservation standard for any particular subtype of electric motor, including the DPPP motors at issue in this proposal.

In DOE's view, this historical backdrop points to a statutory framework in which any energy conservation standards, labeling requirements, or test procedures for electric motors, as broadly defined in DOE's current regulations, continue to be subject to Federal preemption. This situation, and for the policy reasons discussed elsewhere in this document, merit action by DOE to ensure the uniformity of the various energy conservation-related requirements pertaining to the specific class of electric motors addressed in this proposal (i.e. DPPP motors) in a manner consistent with the statutory framework that Congress has enacted. That framework indicates that covered equipment specified by Congress (in this case, electric motors) are subject to Federal preemption regardless of whether Federal energy conservation standards, labeling requirements, or test procedures have been established. Accordingly, DOE notes that efforts by States to set energy conservation standards, test procedures, or labeling requirements for DPPP motors—or any other electric motor—are preempted as a matter of law.⁶

⁶ EPCA defines an “energy conservation standard” as either a performance standard prescribing a minimum level of energy efficiency or a maximum quantity of energy use for a product or a design requirement for a product. See 42 U.S.C. 6311(18).

On January 18, 2017, DOE published a direct final rule establishing energy conservation standards for dedicated-purpose pool pumps (“DPPPs”). 82 FR 5650 (the “January 2017 Direct Final Rule”). DOE confirmed the adoption of the standards and the effective date and compliance date in a notice published on May 26, 2017. 82 FR 24218. DOE also established a test procedure for DPPPs. 82 FR 36858 (August 7, 2017).

In comments submitted in response to the direct final rule, several interested parties discussed the issue of the efficiency of electric motors used in DPPPs. Comments were received from a broad range of interested parties, including manufacturers, trade associations, and energy efficiency advocacy organizations suggesting that energy conservation standards were also needed for motors used in pool pumps. Commenters wanted to ensure that consumers who purchased pool pumps compliant with the new standards at 10 CFR 431.465(f), who subsequently needed to replace their motor, would do so with a motor of equal or greater efficiency. All comments received that discussed DPPP motors supported further rulemaking to address these motors. (Regal Beloit Corporation (“Regal Beloit”), No. 122 at p. 1; Hayward Industries, Inc. (“Hayward”), No. 125 at p. 1; Pentair Water Pool and Spa, Inc. (“Pentair”), No. 132 at pp. 1-2; Zodiac Pool Systems (“Zodiac”), No. 134 at pp. 1-2; Association of Pool and Spa Professionals (“APSP”), No. 127 at p. 2; Appliance Standards Awareness Project (“ASAP”), No. 133 at pp. 4-5; Natural Resource Defense Council (“NRDC”), No. 121 at p. 4; California Investor Owned Utilities (“CA IOUs”), No. 130 at p. 2) ⁷

⁷ The comment numbers referenced in the parenthetical refer to comments in docket number EERE-2015-BT-STD-0008, available at: https://www.regulations.gov/docket?D=EERE-2015-BT-STD-0008. A notation in the form “Regal Beloit, No. 122 at p. 1” identifies a written comment: (1) Made by Regal Beloit; (2) recorded in document number 122 that is filed in the aforementioned docket; and (3) which appears on page 1 of document number 122.

Subsequently, DOE published a notice of public meeting and held a public meeting on August 10, 2017, to consider potential scope, definitions, equipment characteristics, and metrics for pool pump motors. 82 FR 30845 (July 3, 2017). DOE also requested comment on potential requirements for pool pump motors in a request for information (“RFI”) pertaining to test procedures for small electric motors and electric motors. 82 FR 35468 (July 31, 2017).

On August 14, 2018, DOE received a petition submitted by a variety of entities (collectively, the “Joint Petitioners”) asking DOE to issue a direct final rule for energy conservation standards for DPPP motors (“Joint Petition”). The entities comprising the Joint Petitioners are indicated in Table I-1. The Joint Petitioners stated that the motor on a pool pump will often fail before the pump itself needs to be replaced, and motor-only replacements are common. (Joint Petition, No. 14 at p. 2) ⁸ They added that without a complementary standard for DPPP motors, upon replacing a pool pump motor, consumers may install replacement motors that are less efficient than the motor with which the DPPP was originally equipped. (Id.) To address this concern, the Joint Petitioners asked DOE to establish a direct final rule establishing prescriptive standards and a labeling requirement for DPPP motors. (Joint Petition, No. 14 at pp. 6-9) They suggested having the direct final rule do the following:

⁸ The references to comments in the remainder of the document are to comments in Docket No. EERE-2017-BT-STD-0048, which is available at: https://www.regulations.gov/docket?D=EERE-2017-BT-STD-0048.

• Define “dedicated-purpose pool pump motor” as any motor that is certified to UL Standard 1004-10:2019, or designed and/or marketed for use in dedicated-purpose pool pump applications;

• Cover DPPP motors with a total horsepower (“THP”) of less than or equal to 5 THP; and exempt polyphase motors capable of operating without a drive (and distributed in commerce without a drive), waterfall pump motors, rigid electric spa pump motors, storable electric spa pump motors, integral cartridge-filter pool pump motors, and integral sand-filter pool pump motors;

• Establish prescriptive requirements: (1) Prohibiting DPPP motors from operating with a capacitor-start induction-run or split-phase configuration at maximum operating speed, (2) requiring that DPPP motors with greater than or equal to 1.15 THP meet the definition of “variable-speed control” DPPP motors, and (3) subjecting DPPP motors with freeze protection controls to the same requirements as DPPPs with freeze protection controls;

• Require that DPPP motors include a label indicating the THP and whether the motor is a single-speed, two-speed, multi-speed, or variable-speed control; and

• Require that manufacturers report to DOE information including the settings of the controls for motors with freeze protection controls (shipped enabled vs. shipped disabled); and, for those DPPP motors distributed with freeze protection controls enabled, the default dry-bulb air temperature setting (in degrees Fahrenheit (“°F”)), default run time setting (in minutes) and default motor speed (in revolutions per minute (“rpm”)). (Id.)

The Joint Petitioners asserted that their proposal for DPPP motors would provide significant benefits to consumers, manufacturers, and the electric grid, by assuring that, when replacing the motor on a DPPP, consumers would continue to realize the energy and cost savings provided under the DPPP energy conservation standard. (Joint Petition, No. 14 at p. 9) The Joint Petitioners sought a compliance date of July 19, 2021, to align with the standards compliance date for DPPPs. (Id.) See also 82 FR 24218 (May 26, 2017).

DOE published a notice of the Joint Petition and sought comment on whether to proceed with the proposal, as well as any data or information that could be used in DOE's determination of whether to issue a direct final rule. 83 FR 45851 (September 11, 2018).⁹ The comment period for this notice closed on October 26, 2018.

⁹ Docket No. EERE-2017-BT-STD-0048, available at: https://www.regulations.gov/docket?D=EERE-2017-BT-STD-0048.

DOE received comments in response to DOE's notice of receipt of the Joint Petition. Table I-1 lists the commenters and identifies whether each was part of the group of Joint Petitioners.¹⁰ Comments were generally supportive of establishing energy conservation standards for DPPP motors. (AHRI, No. 35 at p. 1; ACEE, No. 26 at p. 1; ASAP, No. 31 at p. 1; Arizona Public Service, No. 40 at p. 1; APSP, No. 33 at pp. 1-2; CA IOUs, No. 39 at pp. 1-2; CEC, No. 29 at pp. 1-3; CFA, No. 20 at pp. 1-2; FCAN, No. 21 at p. 1; Hayward, No. 24 at p. 1-2; NEMA, No. 23 at p. 1; National Grid USA, No. 32 at p. 1; NRDC, No. 25 at pp. 1-2; NCDEQ, No. 38 at p. 1, NEEP, No. 27 at p. 1; NPCC, No. 19 at p. 1; Pentair, No. 37 at pp. 1-2; Pool Solutions Group, No. 41 at p. 1; Regal Beloit, No. 28 at p. 1; Speck Pumps, No. 34 at p. 1; Texas ROSE, No. 22 at pp. 1-2; Tucson Electric Power and UNS Electric, No. 18 at p. 1; Waterway Plastics, No. 36 at p. 1; Zodiac, No. 30 at pp. 1-6.)

¹⁰ DOE also received a comment unrelated to pool pump motors, which is not addressed in this proposed rule. Docket: No. EERE-2017-BT-STD-0048, Anonymous, No. 17.

Table I-1—List of Joint Petitioners and Commenters in Response to the Joint Petition
Organization | Abbreviation | Stakeholder group | “Joint petitioner”
Air-Conditioning, Heating, and Refrigeration Institute | AHRI | Trade Organization | No.
Alliance to Save Energy * | ASE | Energy Efficiency Advocates | Yes.
American Council for an Energy Energy-Efficient Economy | ACEEE | Energy Efficiency Advocates | Yes.
Appliance Standards Awareness Project | ASAP | Energy Efficiency Advocates | Yes.
Arizona Public Service | Arizona Public Service | Utility | Yes.
Association of Pool & Spa Professionals | APSP | Trade Organization | Yes.
California Energy Commission | CEC | State | Yes.
Consumer Federation of America | CFA | Consumer Protection Advocacy Group | Yes.
Florida Consumer Action Network | FCAN | Consumer Protection Advocacy Group | Yes.
Hayward Industries | Hayward | Pool Pump Manufacturer | Yes.
National Electrical Manufacturers Association | NEMA | Trade Organization | Yes.
National Grid USA Service Company, Inc. | National Grid USA | Utility | No.
Natural Resources Defense Council | NRDC | Energy Efficiency Advocates | Yes.
Nidec Motor Corporation * | Nidec | Motor Manufacturer | Yes.
North Carolina Department of Environmental Quality | NCDEQ | State | No.
Northeast Energy Efficiency Partnerships | NEEP | Energy Efficiency Advocates | No.
Northwest Power and Conservation Council | NPCC | Interstate Compact | Yes.
Pacific Gas and Electric, Southern California Edison, San Diego Gas and Electric | CA IOUs | Utility | Yes.
Pentair Water Pool and Spa, Inc. * | Pentair | Pool Pump Manufacturer | Yes.
Pool Solutions Group | Pool Solutions Group | Small Business Owner | No.
Regal Beloit Corporation | Regal Beloit | Motor Manufacturer | Yes.
Speck Pumps | Speck Pumps | Pool Pump Manufacturer | Yes.
Texas Ratepayers' Organization to Save Energy | Texas ROSE | Consumer Protection Advocacy Group | Yes.
Tucson Electric Power, Inc., and UNS Electric, Inc | Tucson Electric Power, and UNS Electric | Utility | No.
Waterway Plastics, Inc | Waterway Plastics | Pool Pump Manufacturer | Yes.
WEG * | WEG | Motor Manufacturer | Yes.
Zodiac Pool Systems LLC | Zodiac | Pool Pump Manufacturer | Yes.
* Joint Petitioner who did not file an additional comment in response to DOE's notice of petition.

On December 12, 2018, representatives from APSP, NEMA, Nidec Motors, Regal Beloit, and Zodiac met with DOE to reiterate the need for implementation of the Joint Petition. (December 2018 Ex Parte Meeting, No. 42 at p. 1) ¹¹ On February 5, 2019, APSP, NEMA, Hayward, Pentair, Nidec Motors, Regal Beloit, WEG Commercial Motors, and Zodiac held another meeting with DOE in which the petitioners presented an alternative approach to the Joint Petition, suggesting DOE propose a labeling requirement for DPPP motors. (February 2019 Ex Parte Meeting, No. 43 at p. 1) These interested parties specifically requested that DOE base the labeling requirement on a newly-available industry standard for pool pump motors published on July 1, 2019 (UL 1004-10:2019, “Pool Pump Motors”), a design standard that incorporates some of the proposals contained in the Joint Petition. (February 2019 Ex Parte Slides, No. 43 at pp. 9-10) A follow-up memorandum was submitted to DOE on March 1, 2019, providing additional information related to UL 1004-10:2019. (March 2019 Ex Parte Memo, No. 44) The interested parties noted the timelines and costs that would be involved in applying a label to the affected pool pump motors and the impacts flowing from past labeling efforts. (See generally id. at 1-3.)

¹¹ With respect to each of the ex parte communications noted in this document, DOE posted a memorandum submitted by the interested party/parties that summarized the issues discussed in the relevant meeting as well as its date and attendees, in compliance with DOE's Guidance on Ex Parte Communications. 74 FR 52795-52796 (Oct. 14, 2009). The memorandum of the meeting as well as any documents given to DOE employees during the meeting were added to the docket as specified in that guidance. See Id. at 74 FR 52796.

II. Synopsis of the Notice of Proposed Rulemaking

In response to the Joint Petition and the alternative recommendation presented by several of the Petitioners following submission of the Joint Petition, DOE is proposing to establish a test procedure and a labeling requirement for DPPP motors with the intention of ensuring that the energy savings from the DPPP standard are maintained while posing minimal costs to manufacturers and avoiding potential overlap between DOE requirements and industry-developed standards. DOE is not, however, contemplating the adoption of separate energy conservation standards for the DPPP motors that would be tested and labeled under this proposal.

In this document, DOE is proposing to:

• Specify that the test procedure and labeling rule would apply to “subject DPPP motors” (i.e., DPPP motors with a THP of less than or equal to 5, but would not apply to: (i) DPPP motors that are polyphase motors capable of operating without a drive and distributed in commerce without a drive that converts single-phase power to polyphase power; (ii) waterfall pump motors; (iii) rigid electric spa pump motors, (iv) storable electric spa pump motors; (v) integral cartridge-filter pool pump motors, and (vi) integral sand-filter pool pump motors);

• Incorporate by reference UL 1004-10:2019 and reference the definitions of that standard;

• Incorporate by reference CSA C747-09 as the energy efficiency test method for DPPP motors;

• Require the nameplate of a subject DPPP motor (1) to include the full load efficiency of the motor as determined under the proposed test procedure, and (2) if the DPPP motor is certified to UL-1004:2019, to include the statement, “Certified to UL 1004-10:2019”;

• Require that catalogs and marketing materials include the full load efficiency of the motor;

• Require manufacturers to notify DOE of the subject DPPP motor models in current production (according to the manufacturer's model number) and whether the motor model is certified to UL 1004-10:2019; and

• Require manufacturers to report to DOE the full load efficiency of the subject DPPP motor models as determined pursuant to the proposed test procedure. Additionally, if a DPPP motor model is certified to UL 1004-10:2019, require manufacturers to report the total horsepower and speed configuration of the motor model as provided on the nameplate pursuant to the UL certification.

DOE proposes to incorporate these new DPPP motor requirements in a new subpart Z within 10 CFR part 431. The provisions of the proposed rule are discussed in further detail in the following section.

III. Discussion

A. Scope of Applicability

DOE is proposing that the scope of the proposed test procedure and labeling requirements for DPPP motors align with the scope of motors used in pool pumps that are subject to standards and for which DOE has established an energy performance requirement,¹² both in terms of capacity and categories of equipment (with the six exemptions). See 10 CFR 431.465. Accordingly, DOE proposes that the scope of this test procedure and labeling rule includes all pool pump motors with a THP less than or equal to 5 THP, and excludes six categories of motors that correspond to the kinds of motors used in pool pumps for which DOE has not established performance standards. See 10 CFR 431.465. DOE notes that DPPP motors are not small electric motors as defined under EPCA.¹³ Therefore, the proposed test procedure and labeling requirements would apply to DPPP motors regardless of how the equipment is sold: i.e., whether incorporated in a DPPP or sold separately as a replacement part. The scope is the same as the scope recommended by the Joint Petitioners, which includes pool pump motors regardless of how they are sold—i.e., incorporated in pool pumps, individually sold, and without regard to whether the motor is manufactured domestically or imported. 83 FR 45851, 45855. The scope is also the same as the scope of UL 1004-10:2019. (See UL 1004-10:2019 sec. 1.4, 1.5) The proposed exemptions, for which definitions are provided in UL 1004-10:2019, are listed as follows:

¹² Integral cartridge filter pool pumps and integral sand filter pool pumps subject to standards do not have energy performance requirements. Instead, they must be distributed in commerce with a pool pump timer that is either integral to the pump or a separate component that is shipped with the pump (10 CFR 431.465(g))

¹³ DPPP motors are not general-purpose motors and therefore do not meet the definition of small electric motors. 10 CFR 431.442. Certain DPPP motors have similar characteristics to small electric motors. They can be single speed, NEMA 2-digit frame size, have open enclosures and can either be capacitor-start induction-run, capacitor-start capacitor-run or polyphase motors. However, these DPPP motors do not meet all the performance requirements in section 1.05 of NEMA MG1-1987 for general purpose motors (i.e., service factor, breakdown torque, locked rotor torque); and/or are designed, marketed for use in pool pump application, or both. Therefore, they do not meet the definition of a small electric motors. Accordingly, EPCA's exclusion of small electric motors that are a component of a covered product or equipment type from the small electric motors energy conservation standards does not apply to DPPP motors. See 42 U.S.C. 6317(b)(3).

• Polyphase motors capable of operating without a drive and distributed in commerce without a drive that converts single-phase power to polyphase power,

• Waterfall pump motors,

• Rigid electric spa pump motors,

• Storable electric spa pump motors,

• Integral cartridge-filter pool pump motors, and

• Integral sand-filter pool pump motors.

The recommended upper limit of 5 THP was set to approximate the scope of the pool pumps subject to standards at 10 CFR 431.465(f), which has an upper bound of 2.5 hydraulic horsepower (“HHP”).¹⁴ DOE already defines the term “dedicated-purpose pool pump motor total horsepower” at 10 CFR 431.462 and establishes how it is determined in section E.3.4 of 10 CFR part 431, subpart Y, appendix C. This approach is identical to the characterization of DPPP motor THP in UL 1004-10:2019 (which is discussed further in section III.D.3). (See UL 1004-10:2019, sec. 2.15.) UL 1004-10:2019 also requires the DPPP motor THP to be permanently marked on the nameplate. (See UL 1004-10:2019, sec. 7.1.)

¹⁴ A pool pump providing 2.5 HHP typically operates using a 5 THP motor.

The proposed exemption for polyphase motors would apply to three-phase motors operating on three-phase power supply, which are most common in commercial applications and not used in residential applications. The proposed exemptions for polyphase motors would not exempt three-phase motors operating on a single-phase power supply (by connecting the motor to a drive that converts single-phase power to three-phase power), which are commonly used in residential applications. This exemption would ensure that DPPP motors used in pool pumps operating on three-phase power, which are not subject to energy performance requirements under 10 CFR part 431, subpart Y, would be exempt from the proposed labeling requirements. The remaining proposed five exemptions would also exempt DPPP motors used in DPPPs that are not subject to energy performance requirements under 10 CFR part 431, subpart Y.

Therefore, the scope of the proposed test procedure and labeling requirement is consistent with the scope of motors used in pool pumps that are subject to standards and for which DOE has set an energy performance requirement, with the scope of UL 1004-10:2019, and with the scope recommendations of the Joint Petitioners.

DOE requests comments on its proposal to establish a test procedure and labeling requirement for DPPP motors with a total horsepower of less than or equal to 5 THP, with the exception of: Polyphase motors capable of operating without a drive and distributed in commerce without a drive that converts single-phase power to polyphase power; waterfall pump motors; rigid electric spa pump motors; storable electric spa pump motors; integral cartridge-filter pool pump motors; and integral sand-filter pool pump motors.

B. Definitions

As noted, UL 1004-10:2019 establishes definitions and marking requirements for certain pool pump motors and describes methods to verify the information conveyed by those required markings. DOE proposes to incorporate by reference UL 1004-10:2019 (see section III.D.3 of this NOPR) and to reference the definitions published in that industry standard, as generally recommended by the Joint Petitioners. DOE notes that while UL 1004-10 was referenced in the Joint Petition, at the time, UL 1004-10 was in the process of being developed and had not been finalized. (Joint Petition, No. 14 at p. 7) DOE provides the main deviations of the definitions finalized in UL 1004-10:2019 from those recommended by the Joint Petitioners in Table III-1 of this NOPR.

Table III-1—UL 1004-10:2019 Definition Deviations From Joint Petitioners' Recommendations ¹⁵
Definition | Deviations from the joint petitioners' recommendations
Dedicated-purpose pool pump motor | UL 1004-10:2019 only uses “and/or” as “designed and/or marketed” whereas Joint petitioners use “and/or” before “is designed” and before “marketed.”
Designed and marketed | UL 1004-10:2019 removes “when distributed in commerce” from the recommended definition. UL 1004-10:2019 also uses “any publicly available documents” whereas the joint petitioners use “all publicly available documents”.
Designed and/or marketed | UL 1004-10:2019 removes “when distributed in commerce” from the recommended definition.
Dedicated-purpose pool pump motor total horsepower (THP) | UL 1004-10:2019 includes further specification that THP is calculated in accordance with the method provided in section E.3.4 of appendix C of 10 CFR, part 431, subpart Y, Pumps; and that the DPPP motor THP is also referred to in the industry as service factor horsepower or motor capacity.
Integral cartridge-filter pool pump motor; Integral sand-filter pool pump motor; Storable electric spa pump motor; | UL 1004-10:2019 removes “that is distributed in commerce” from the recommended definitions.
Variable-speed control dedicated-purpose pool pump motor | UL 1004-10:2019 removes “that must be distributed in commerce” from the recommended definitions. UL 1004-10:2019 also includes references to 10 CFR part 431, subpart Y within the definitions.
Multi-speed dedicated purpose pool pump motor; Two-speed dedicated purpose pool pump motor | UL 1004-10:2019 adds new definitions (Joint petitioners did not recommend definitions).

DOE requests comment on its proposal to incorporate by reference the definitions included in UL 1004-10:2019.

¹⁵ Grammatical and formatting changes in the definitions in UL 1004-10:2019 from those recommended by the Joint Stakeholders are not included in this table.

As discussed in section III.E, the proposed reporting requirement would require manufacturers to notify DOE of the models in current production (according to the manufacturer's model number) to which the labeling requirement applies. DOE proposes to reference the term “manufacturer's model number,” which is generally applicable to commercial equipment and defined as the identifier used by a manufacturer to uniquely identify the group of identical or essentially identical commercial equipment to which a particular unit belongs. The manufacturer's model number typically appears on equipment nameplates, in equipment catalogs and in other product advertising literature. 10 CFR 431.2.

DOE requests comment on the proposed use of the term “manufacturer's model number” as defined at 10 CFR 431.2 for the purpose of reporting.

C. Test Procedures

As discussed in section I.A.1, EPCA provides for the establishment of a test procedure for covered equipment. (42 U.S.C. 6314(a)) The test procedure must be reasonably designed to produce results reflecting the energy efficiency, energy use, and estimated operating costs of the covered equipment. (42 U.S.C. 6314(a)(2)) While EPCA includes specific test procedure-related requirements for electric motors, these requirements are limited to those motors for which standards are applicable. (See 42 U.S.C. 6314(a)(5)) As energy conservation standards are not currently applicable for DPPP motors, these specific requirements do not apply.

Consistent with the statutory framework, DOE is proposing to incorporate by reference CSA C747-09 (published October 1, 2009) as the prescribed test method for evaluating the energy efficiency of those electric motors used in DPPP applications. This industry-based test procedure, which is already prescribed by DOE as an alternative testing method for evaluating the efficiency of certain small electric motors, can be applied to the range of electric motors that are used in DPPPs—including both single- and variable-speed DPPP motors. Any anticipated costs for the proposed test procedure are discussed in section III.F.1 of this document.

CSA C747 provides guidelines for the testing of a single motor. CSA C747-09 requires the direct measurement of electrical input power to the motor and mechanical output power (in the form of torque and speed) from the motor (i.e., “input-output” test), and calculates the efficiency as the ratio of these two values at different load points. CSA C747-09 explicitly states that the test method is applicable to motors with variable speed controls (see Section 4 of CSA C747-09) and multi-speed motors (See Section 6.6 and 6.7.1 of CSA C747-09), which is inclusive of the scope of DPPP motors. Accordingly, DOE proposes to incorporate CSA C747-09 by reference at 10 CFR 431.482.

DOE requests comments on its proposal to incorporate by reference CSA C747-09 as the prescribed test method for evaluating the energy efficiency of DPPP motors.

As specified in section 6.5 of CSA C747-09, the motor efficiency is measured at no fewer than five load points.¹⁶ When represented in catalogs, motor efficiency in general, and specifically pool pump motor efficiency, is typically provided at full load. DOE proposes the energy efficiency metric for pool pump motors to be the full load efficiency.¹⁷ The efficiency of electric motors and small electric motors currently subject to the test procedures in appendix B to subpart B of 10 CFR part 431 and at 10 CFR 431.444 is measured at full load.

¹⁶ As specified in section 6.5 of CSA C747-09, the motor efficiency is measured at no fewer than five load points total; at least four of which must be between 25% and 100% of full-load, and at least one of which between 100% and 125% of full-load.

¹⁷ For variable speed motors, Section 3 of CSA C747-09 defines “full load” as the rated output power at the speed specified by the manufacturer. For all other motors, it is defined as the rated horsepower of the motor (i.e., the horsepower indicated on its nameplate).

DOE requests comments on its proposal to use full load efficiency as the energy efficiency metric for pool pump motors.

In addition to providing a test method to measure motor efficiency, Section 7 of CSA C747-09 provides instructions on how to select the corresponding nominal efficiency value from Table 1 of CSA C747-09. Section 8 of CSA C747-09 requires that the nominal efficiency value at full load be marked on the motor. To determine the nominal efficiency, Table 1 of CSA C747-09 provides a series of standardized ranges of efficiency from 6 to 11 percent up to 98.8 to 99.0 percent. For a tested motor, the nominal efficiency value selected is the maximum efficiency value of the range that includes the measured efficiency value. As a result, the nominal efficiency value is either equal to or greater than the measured efficiency value. For example, a motor with a measured efficiency value of 84.5 percent could have a nominal efficiency value of 86.5 percent, which is the maximum efficiency value of the range that includes the measured efficiency value. To prevent having a metric that could potentially overstate the measured efficiency of the motor, DOE is not proposing to require use of nominal efficiency when labeling the efficiency of a pool pump motor as described in Section 7 and 8 of CSA C747-09. Instead, DOE is proposing that a manufacturer test at least one motor for each model and that the labeled efficiency of a tested motor (i.e., the labeled full load efficiency) for that model fairly discloses the results of such test. (See 42 U.S.C. 6314(d))

D. Labeling and Disclosure Requirement

As discussed earlier, DOE is proposing to adopt a test procedure for DPPP motors and a corresponding labeling rule. Under the current statutory framework, labeling requirements for electric motors are dependent upon the Secretary's establishment of a test procedure pursuant to DOE's authority under 42 U.S.C. 6314. (See 42 U.S.C. 6315(d)) In accordance with this authority, DOE is proposing to establish a labeling rule to require that the nameplate indicate the energy efficiency of a DPPP motor as determined by the proposed test procedure, and that the equipment catalog and other marketing materials also disclose the energy efficiency of the DPPP motor. (See 42 U.S.C. 6315(d)(1)-(2)) DOE is not, however, proposing to include other markings related to energy conservation standards for electric motors because no energy conservation standards under section 6313 currently apply to DPPP motors. (See 42 U.S.C. 6315(d)(3)) The inclusion of the energy efficiency of the motor on the nameplate and marketing materials will allow consumers to compare the efficiency of the original motor in the DPPP with potential replacement motors.

In addition, this labeling proposal would also incorporate by reference UL 1004-10:2019 (see section III.D.3 for further details) and require manufacturers to include the statement “Certified to UL 1004-10:2019” on the nameplate of DPPP motors, if the motor is certified to UL-1004:2019. This proposal would not affect a manufacturer's ability to sell DPPP motors that are not “Certified to UL 1004-10:2019,” as these motors can be used in other pump applications.¹⁸ As described in section III.D.3 of this NOPR, UL 1004-10:2019 requires that pool pump motors certified to that standard be permanently marked with their total horsepower and speed configuration (either single-speed, two-speed, multi-speed, or variable-speed). DOE believes that the inclusion of the “Certified to UL 1004-10:2019” statement as well as the label disclosing the motor's energy efficiency will inform consumers about which motors should be used to maintain the efficiency of the DPPP.

¹⁸ See, e.g. https://www.baldor.com/brands/baldor-reliance/products/motors/ac-motors/pump/56j-jet-pump-motors (noting the various applications in which Baldor-Reliance's 56J Jet Pump Motors may be used) and https://www.worldwideelectric.net/product-category/electric-motors/worldwide-low-voltage-motors/fractional-hp-motors/jet-pump-three-phase/(identifying multiple applications for Worldwide Electric's three-phase jet pump (totally-enclosed, fan-cooled) electric motors).

As a result of this proposed rule, (1) the nameplates of all subject DPPP motors would include the energy efficiency of the motor as determined by the proposed test procedure, and (2) the nameplates of all subject DPPP motors certified to UL 1004-10:20119 would additionally include the statement “Certified to UL 1004-10:2019,” in addition to the total horsepower and speed configuration information already required by UL 1004-10:2019.

Section 6315(c) of EPCA authorizes the Secretary to include labeling requirements if they are likely to assist purchasers in making purchasing decisions, including: (1) Requirements and direction for display of any label, (2) requirements for including on any label, whether separately attached or shipped with, the covered equipment, such additional information relating to the energy efficiency, energy use, and other measures of energy consumption, including instructions for the maintenance, use, or repair of the covered equipment, as the Secretary determines necessary to provide adequate information to purchasers, and (3) requirements that printed matter which is displayed or display or distributed at the point of sale of such equipment disclose such information as may be required under this section to disclose on the label of such equipment. (42 U.S.C. 6315(c)) The inclusion of the statement “Certified to UL 1004:10-2019,” if applicable, would be likely to assist purchasers, as it provides purchasers additional information about the energy efficiency of the product. (See 42 U.S.C. 6315(c)(2)) Further, the statement on the nameplate would also inform purchasers that the equipment conforms to the industry standard for DPPP motors. Additionally, certification to UL 1004-10:2019 specifies that the nameplate on the DPPP motor include the total output power and speed configuration of the motor. This information would allow consumers to compare replacement motor models with the specifications of motors that are currently installed in their DPPPs, allowing for replacement with motors of comparable energy efficiency and speed capability.

1. Energy Efficiency Nameplate Label

As discussed previously, labeling rules applicable to electric motors shall provide that the label for electric motors indicate the energy efficiency of the motor on the permanent nameplate attached to the motor. (42 U.S.C. 6315(d)(1)) When establishing labels for electric motors, DOE must consider the NEMA Standards Publication MG1-1987 (“NEMA MG1-1987”). (42 U.S.C. 6315(d)) Section MG1-12.30 of NEMA MG1-1987 specifies that the energy efficiency of a motor must be measured in accordance with (1) Institute of Electrical and Electronics Engineers (“IEEE”) 114-1982 Test Procedures for Single Phase Motors; or (2) IEEE 112-1984 Test procedures for Polyphase Induction Motors and Generators.

IEEE 114-1982 has been updated and replaced by newer versions. The most recent version was published in 2010 (i.e., IEEE 114-2010). IEEE 114-2010 is only applicable to single phase alternating current (“AC”) induction motors tested at full speed, and cannot be applied to the entire range of pool pump motors addressed in this NOPR. For example, IEEE 114-2010 does not include instructions on how to test electronically commutated motors (“ECMs”), which is the primary category of motors used in variable speed pool pumps.

IEEE 112-1984 also has been updated and replaced by newer versions. The most recent version was published in in 2017 (i.e., IEEE 112-2017). IEEE 112-2017 provides test procedures for AC induction polyphase motors without drives and is not applicable to DPPP motors as defined in this proposal, given the proposed exemption for polyphase motors.¹⁹ As discussed in section III.C, DOE proposes CSA C747-09 as the prescribed test method for evaluating the energy efficiency of those electric motors used in DPPP applications. DOE recognized in a previous rulemaking pertaining to small electric motors that CSA C747-09 is equivalent to the IEEE 114-2010 test methods. 74 FR 32059, 32065 (July 7, 2009). The main difference between the two industry standards is that CSA C747-09 explicitly states that the test method is also applicable to motors with variable speed controls (see Section 4 of CSA C747-09) and multi-speed motors (See Section 6.6 and 6.7.1 of CSA C747-09), making it explicitly applicable to those types of DPPP motors; whereas IEEE 114-2010 is applicable only to single phase AC induction motors tested at full speed, and cannot be applied to the entire range of DPPP motors in scope. Therefore, CSA C747-09 is more appropriate than IEEE 114-2010 as a test procedure and for establishing labels for DPPP motors. In addition, as discussed in III.C, DOE proposes the metric for DPPP motors to be the full load efficiency. Accordingly, DOE proposes that the nameplate disclose the full load efficiency of the DPPP motor and that the equipment catalog and other marketing materials also include the full load energy efficiency of the DPPP motor. Furthermore, DOE is proposing to require representations be based on testing of a minimum of one DPPP motor that is manufactured by a single manufacturer, and which has the same total horsepower, has electrical characteristics that are essentially identical, and does not have any differing physical or functional characteristics regarding the operating speed. The disclosure of the energy efficiency of the motors on the nameplate informs consumers of the energy efficiency of a DPPP motor. This allows consumers to make comparisons prior to purchase by comparing the efficiency of the original DPPP motor with potential replacements. DOE also proposes to establish sampling requirements for those instances in which a manufacturer chooses to test more than one unit.

¹⁹ See exemption of polyphase motors capable of operating without a drive and sold without a drive that; converts single phase power to three-phase power discussed in section III.A of this document.

2. Energy Efficiency Disclosure

The labeling provisions in EPCA specific to electric motors require that equipment catalogs and other marketing materials prominently display the energy efficiency of the electric motor. (42 U.S.C. 6315(d)(2)) After reviewing equipment catalogs, DOE has determined that motor efficiency in general, and specifically pool pump motor efficiency, is typically provided at full load. The disclosure of motor energy efficiency in the marketing materials will inform consumers about the energy efficiency of potential replacement motors. This would allow consumers to compare the efficiency of the original DPPP motor with potential replacement motors and ultimately guide consumers on selecting an appropriate motor when a replacement for the original motor is necessary. Accordingly, DOE proposes that the equipment catalog and other marketing materials for DPPP motors include the full load energy efficiency of the DPPP motor model.

3. UL 1004-10:2019 Statement

As discussed in section I.B of this NOPR, several interested parties met with DOE and recommended as an alternative to the August 2018 petition that DOE adopt a labeling requirement for DPPP motors based on UL 1004-10:2019. These interested parties stated that requirements of UL 1004-10:2019 are identical to those suggested in the Joint Petition and that the UL standard was developed to identify DPPP motors that could be used in DPPPs that comply with the DOE standards. (APSP and NEMA, No. 43-b, at p. 9)

As discussed, UL 1004-10:2019 establishes definitions and marking requirements for certain pool pump motors and describes methods to verify the information conveyed by those required markings. UL 1004-10:2019 requires that pool pump motors certified to that standard be permanently marked with their total horsepower and speed configuration (either single-speed, two-speed, multi-speed, or variable-speed).²⁰ UL 1004-10:2019 also specifies that (1) motors must not be built in a capacitor-start, induction-run or split-phase configuration at maximum operating speed; and (2) motors with a THP greater than or equal to 1.15 must include a variable-speed control. The UL 1004-10:2019 specifications reflect the motor options likely to be employed in DPPPs as a means to comply with the efficiency levels required by the DPPP standards at 10 CFR 431.465(f) (compliance date of July 19, 2021). Accordingly, a DPPP motor that meets the UL standard and that is used as a replacement motor in a compliant DPPP would ensure that the efficiency level of the DPPP is maintained. The inclusion of the “Certified to UL 1004-10:2019” statement would inform consumers that the motor being used in their DPPP meets the same industry standards as the original motor including the speed and configuration of the motor.

²⁰ UL 1004-10, Outline of Investigation for Pool Pump Motors, Issue Number: 1, published July 1, 2019.

Pool pump motors with a total horsepower greater than or equal to 1.15 THP are primarily used in standard-size self-priming pool filter pumps (52 percent of DPPP motor applications), while pool pump motors below 1.15 THP are typically found in small-size self-priming pool filter pumps, non-self-priming pool filter pumps, and pressure cleaner booster pumps (which represent 48 percent of the DPPP motor applications).²¹ The limit in scope of UL 1004-10:2019 at 1.15 THP mirrors the 0.711 HHP limit used to differentiate standard-size self-priming pool filter pumps (which are subject to the DOE pool pump energy conservation standards that would likely require a variable-speed control motor) from small-size self-priming pool filter pumps (which are subject to the DOE pool pump energy conservation standards that would likely require a high-efficiency single-speed motor).

²¹ Estimate of DPPP motors shipments by DPPP application for 2021.

Additionally, UL 1004-10:2019 ensures that pool pump motors with freeze protection controls are shipped with the freeze protection feature disabled, or with the following default, user-adjustable settings: (a) The default dry-bulb air temperature setting shall be no greater than 40 °F; (b) the default run time setting shall be no greater than 1 hour (before the temperature is rechecked); and (c) the default motor speed in freeze protection mode shall not be more than half of the maximum operating speed. These settings are identical to the requirements for pool pumps with freeze protection controls found at 10 CFR 431.465(h) and ensure replacement motors have the same settings as original motors used in pool pumps. UL 1004-10:2019 also describes steps to follow in order to verify that these settings are included in pool pump motors with freeze protection controls.

Accordingly, DOE proposes that the statement “Certified to UL 1004-10:2019” be included on DPPP motors that are certified to UL-1004:2019. The inclusion of this statement would not prohibit the sale of DPPP motors that are not certified to UL 1004-10:2019 for other applications, but it evidences to consumers which motors will ensure that the efficiency level of the original DPPP motor is maintained.

4. Statutory Requirements for Label

For any labeling requirement under 42 U.S.C. 6315, EPCA states that the Secretary shall not promulgate labeling rules for “any class of industrial equipment unless it has determined that (1) labeling in accordance with this section is technologically and economically feasible with respect to such class; (2) significant energy savings will likely result from such labeling; and (3) labeling in accordance with this section is likely to assist consumers in making purchasing decisions.” (42 U.S.C. 6315(h)) Accordingly, DOE has reviewed the proposed labeling requirement that the nameplate disclose the energy efficiency of a DPPP motor as determined by the proposed test procedure and that DPPP motors be marked, if applicable, with the statement “Certified to UL 1004-10:2019.” In addition, DOE has reviewed the proposed requirements for equipment catalogs and other marketing materials prominently displaying the energy efficiency of the electric motor. DOE has made the following tentative findings.

DOE has tentatively determined that the proposed labeling requirement is technologically and economically feasible. As discussed previously, the proposed rule would incorporate by reference CSA C747-09 as the test procedure and require that the nameplate disclose the energy efficiency of a DPPP motor as determined by the proposed test procedure. In addition, the proposed rule would incorporate by reference UL 1004:10-2019 and require manufacturers to include the statement “Certified to UL 1004-10:2019” on the nameplate of DPPP motors, if the motor is certified to UL-1004:2019. Finally, the proposed rule would require that to the extent manufacturers provide equipment catalogs and other marketing materials, such catalogs and materials would be required to prominently display the energy efficiency of the electric motor. After reviewing product catalogs and purchasing a range of electric motor products for inspection, DOE has found that electric motor manufacturers include nameplates on their equipment, and typically these nameplates include the equipment's model number, horsepower, and other motor attributes. In addition, equipment catalogs also include similar information, with at least one DPPP motor manufacturer currently including energy efficiency information in its marketing materials and catalogs. DOE purchased and reviewed a selection of DPPPs from three different manufacturers and tentatively determined that the existing labels on the integrated motors include adequate blank space that would allow for incorporation of energy efficiency and an additional statement regarding the status of certification to UL 1004-10:2019 without needing to increase the size of the label. Furthermore, for those DPPP motor manufacturers that would be required to include additional energy efficiency information in their marketing materials and catalogs, DOE tentatively concludes that there is adequate space that would allow for the addition of the energy efficiency information. Given that manufacturers currently include nameplates on motors that would be classified as DPPP motors under the proposed rule, there would be no physical limitations on including the proposed statement, and that there would be no physical limitations to include the energy efficiency information in marketing materials and catalogs, DOE has tentatively determined that it is technologically feasible for DPPP motor manufacturers to provide the labeling requirements as proposed.

DOE has also tentatively determined that it is economically feasible ²² to include a label as proposed on a DPPP motor as required under 42 U.S.C. 6315(h)(1). See 42 U.S.C. 6315(h)(1)-(3) (prohibiting promulgation of labeling requirements unless the Secretary has first determined that labeling is technologically and economically feasible with respect to each class, that significant energy savings will likely result from such labeling, and labeling is likely to assist consumers in making purchasing decisions). As noted, manufacturers currently include nameplates on electric motors that would be classified as DPPP motors under the proposed rule, demonstrating that inclusion of a label is not cost prohibitive. Further, inclusion of the energy efficiency and the required UL 1004-10:2019 statement, if applicable, on an existing nameplate would also not be cost prohibitive. DOE estimates the one-time manufacturer conversion costs associated with label redesign to be up to $10,000 per DPPP motor manufacturer. This estimated cost includes the development of a new label layout by an internal resource, production of test samples, an internal committee meeting to approve final designs, and implementation across the assembly lines. DOE estimates that this cost would be less than one tenth of one percent of the average manufacturer's annual revenue. DOE notes that the interested parties stated that there would be a negligible incremental cost associated with obtaining a UL 1004-10:2019 label and estimated this cost to be in the range of $30,000-$40,000 per motor manufacturer.²³ (March 2019 Ex Parte Memo, No. 44 at p.2) However, the interested parties did not provide any further information on how this estimate was determined, and DOE acknowledges that this estimate may include costs that are outside of the scope of this labeling proposal.

²² The criterion of “economically feasible” is a separate and distinct consideration from “economically justified” under 42 U.S.C. 6295(o)(2)(B)(i) that requires evaluation of a series of seven factors specified by EPCA, one of which includes consideration of cost savings. (42 U.S.C. 6295(o)(2)(B)(i)(I)-(VII)) The consideration of “economically justified” is required in the context of establishing energy conservation standards. (See 42 U.S.C. 6316(a); 42 U.S.C. 6295(o)(2)(b)(i)) Accordingly, DOE did not evaluate the proposed labeling requirements under the seven factors and did not estimate any potential cost savings that would occur were the labeling rule to be finalized.

²³ Interested parties also indicated that each pump manufacturer may be faced with a cost of up to $200,000-$300,000 associated with efforts to “validate alternate motors and have them listed with the appropriate agencies.” DOE notes that this labeling proposal does not require pump manufacturers to validate or list DPPP motors, and therefore this cost was not considered in this analysis.

DOE also estimates the requirement to include energy efficiency information in equipment catalogs and other marketing materials of DPPP motors, to the extent that such catalogs and materials are provided by a manufacturer, would also not be cost prohibitive. As discussed previously, DOE tentatively concluded that there is adequate space in catalogs and marketing materials that would allow for the addition of the energy efficiency information. Accordingly, DOE estimates that each DPPP motor manufacturer would spend approximately four additional hours annually to include this value on all equipment catalogs and marketing materials for all DPPP motor models. Based on estimates from the Bureau of Labor Statistics, DOE estimated $44.57 as the hourly rate for a “marketing specialist” or equivalent employee performing this task, resulting in an annual cost of $178 per manufacturer. See section III.F.1.d for further details.

DOE believes that DPPP motor manufacturers would not have suggested that DOE promulgate regulations that would impose costs that those manufacturers found to be uneconomic. Accordingly, DOE has tentatively determined that requiring nameplate labels to provide energy efficiency and the “Certified to UL 1004-10:2019” statement, if applicable, in addition to equipment catalogs and other marketing materials prominently displaying the energy efficiency, would be economically feasible. Additional discussion of the estimated costs of the proposed labeling requirement is provided in section III.F.

DOE's proposal is also consistent with the requirements of the National Technology Transfer and Advancement Act of 1995, Public Law 104-113, 12(d), Mar. 7, 1996, 110 Stat. 783, as amended by Public Law 107-107, Div. A, Title XI, § 1115, Dec. 28, 2001, 115 Stat. 1241 (“NTTAA”), 15 U.S.C. 272 note, and the associated OMB Circular A-119, which directs Federal agencies to use voluntary consensus standards unless inconsistent with applicable law or otherwise impracticable.²⁴

²⁴ Section 12(d) of the NTTAA provides that with one exception, all Federal agencies and departments shall use technical standards developed or adopted by voluntary consensus standards bodies (“voluntary consensus standards”), using such standards as a means to carry out policy objectives or activities determined by the agencies and departments. The statutory exception is that a Federal agency or department may elect to use other technical standards if using voluntary consensus standards is inconsistent with applicable law or otherwise impractical, and if the agency head submits to OMB an explanation of the reasons for using the alternative standards. See 15 U.S.C. 272 note. Section 6 of OMB Circular A-119, available at https://www.whitehouse.gov/sites/whitehouse.gov/files/omb/circulars/A119/revised_circular_a-119_as_of_1_22.pdf, reiterates the requirement for Federal agencies to use voluntary consensus standards unless inconsistent with applicable law or otherwise impracticable, and to issue guidance for agency reporting to OMB when standards other than voluntary consensus standards are used.

DOE has tentatively determined that the proposed labeling requirement would likely result in significant energy savings. DOE estimates that the proposed labeling rule would save 1.0 quadrillion British thermal units (quads) of energy over a 30-year period (2021-2050). This energy savings estimate assumes all consumers would select replacement motors that are as efficient as motors sold in compliant pool pumps (i.e., compliant with the standards at 10 CFR 431.465(f)) and certified to UL 1004-10:2019. If consumers select replacement motors that are not as efficient as motors sold in compliant pool pumps and are not certified to UL 1004-10:2019, then the energy savings would be less than estimated in this analysis. The total energy savings from this proposed labeling rule can be broken down into two segments: (1) The preserved energy savings from the January 2017 Direct Final Rule (0.8 quads) and (2) additional energy savings (0.2 quads) from an increase in shipments of compliant pool pumps and pool pump motors. Since the publication of the January 2017 Direct Final Rule, several interested parties commented that without a complementary standard or label for DPPP motors, upon replacing a pool pump motor, consumers may install replacement motors that are less efficient than the motor originally in the pool pump (See discussion in section I.B). The January 2017 Direct Final Rule assumed that, even in the absence of DPPP motor requirements, all consumers purchasing pool pumps after 2021 would select replacement motors that are as efficient as the motors sold in the original pump and included the savings originating from the sales of replacement motors in the total energy savings for this rule. Considering the recent inputs from interested parties, DOE determined that a labeling rule is necessary to ensure these energy savings are preserved (0.8 quads). The additional energy savings (0.2 quads) are attributable to DPPPs that were manufactured prior to the DPPP energy conservation standards compliance date (i.e. July 19, 2021) that are repaired with replacement motors sold in or after 2021, and by an increase of shipments of compliant pool pumps (incorporating DPPP motors).

DOE used information from the DPPP direct final rule technical support document (Chapter 9 Shipments Analysis and Chapter 10 National Impact Analysis) to estimate the energy savings from the proposed labeling requirement.²⁵ First, DOE used the projected shipments of pool pumps, lifetime distributions, and repair frequency (40 percent per year) as provided in the DPPP rulemaking and recommended by interested parties (March 2019 Ex Parte Memo, No. 44 at p.2) to calculate the resulting number of failing motors each year and corresponding motor replacement sales. DOE then estimated the per unit energy savings of a DPPP with a less efficient replacement DPPP motor, as compared to the energy consumption of DPPP with a replacement motor that is certified to UL 1004-10:2019 (assuming that the UL 1004-10:2019 certified DPPP motor had the same efficiency and speed control capability as the motor being replaced). For each pool pump motor application (i.e., pool pump equipment class), DOE then combined pool pump motor shipments and per unit energy savings estimates from the January 2017 Direct Final Rule to estimate the savings from the proposed labeling requirement generated by shipments of replacement motors. DOE projects that with the labeling requirement, the repair frequency will remain at its current rate of 40 percent as estimated by interested parties (as described below), rather than increasing to 60 percent as estimated in the January 2017 Direct Final Rule, resulting in a decrease in pool pump repairs that would have otherwise occurred, and therefore an increase in new compliant pool pump sales.²⁶ DOE combined pool pump shipments and per unit energy savings to calculate the additional energy savings from the increase in compliant pool pumps, due to the implementation of the proposed labeling requirements.

²⁵ For more details, see chapter 9 and 10 of the DPPP direct final rule TSD, at https://www.regulations.gov/document?D=EERE-2015-BT-STD-0008-0105.

²⁶ In the January 2017 Direct Final Rule, DOE projected that the repair frequency of some categories of pool pumps (i.e., certain pool pumps sold prior to the compliance date of the pool pump standards, July 19, 2021; and still in operation after 2021) will increase from 40 percent to 60 percent in the standards case due to the availability of lower efficiency replacement DPPP motors. 82 FR 5650, 5703 (January 18, 2017)

The calculations are provided in a spreadsheet published in the rulemaking docket.

The energy savings estimated by DOE (1.0 quads) are lower than the estimate of 1.9 quads provided by the interested parties. (March 2019 Ex Parte Memo, No. 44 at p.2) Interested parties based this estimate on several assumptions: (1) The repair frequency of all pool pump equipment classes would increase from 40 percent to 60 percent as a result of the pool pump energy conservation standards; (2) a labeling requirement would revert the repair frequency to its current scenario (40 percent), resulting in a decrease in pool pump repairs and increase in new pool pump sales; and (3) the energy savings would be generated exclusively by the increase in sales of compliant variable-speed controlled pool pumps. Interested parties then used the total energy savings over 30 years (2021-2050) from the DPPP rulemaking to estimate the energy savings from increased shipments of compliant pool pumps. DOE reviewed this calculation and identified four main points that explain the difference between DOE's 1.0 quads estimate and the 1.9 quads estimate provided by the interested parties:

• The interested parties' calculation was performed for the entire market of pool pump motors and includes energy savings from categories of pool pump motors for which DOE is not proposing a labeling requirement;

• The interested parties assumed that the repair frequency of all pool pumps would increase from 40 percent to 60 percent as a result of the pool pump energy conservation standards. However, in the January 2017 Direct Final Rule, DOE assumed that the repair frequency would increase only for some categories of pool pumps (i.e., pool pumps sold prior to the compliance date of the pool pump standards, July 19, 2021; and still in operation after 2021). As a result, the shift back to a 40 percent repair frequency would impact only a fraction of the market, and would lead to a smaller increase in pool pump sales than estimated by the interested parties.

• The interested parties assumed that the 40 percent repair frequency corresponds to replacement (i.e., standalone) motors representing 40 percent share of the total market for DPPP motors. However, the 40 percent repair rate corresponds to 40 percent of the segment of the market for repair/replacement of existing installations. As a result, the shift from a 40 percent to a 60 percent repair frequency cannot be used to represent the relative increase in sales of compliant pool pumps; and

• The interested parties' estimate accounts for the energy savings from the increase in sales of pool pumps and does not account for the savings from consumers selecting replacement motors that are UL 1004-10:2019 certified. DOE quantified the savings from consumers selecting replacement motors that are UL 1004-10:2019 certified and the savings generated by an increase in shipments of compliant pool pumps.

Finally, DOE has tentatively determined that the proposed labeling requirement would likely assist consumers in making purchasing decisions. A statement on the nameplate indicating certification to UL 1004-10:2019, if applicable, would inform purchasers that the equipment conforms to the industry standard for DPPP motors. Additionally, certification to UL 1004-10:2019 specifies that the nameplate on the DPPP motor includes the total horsepower and speed configuration of the motor. This information, combined with the energy efficiency information on the nameplate and in marketing materials and catalogs, would allow consumers to compare replacement motor models with the specifications of motors that are currently installed in their DPPPs, allowing for replacement with motors of comparable energy efficiency and speed configuration. In addition, interested parties highlighted the historical success of consumer labeling programs for electric motors. In 2001, NEMA introduced the NEMA Premium compliance mark. Within three years of this introduction, market penetration of premium efficiency motor designs jumped from 10% to over 25% of units sold, which indicates that compliance certifications on consumer labels may be effective in informing consumer purchasing decisions. (March 2019 Ex Parte Memo, No. 44 at p. 3)

For the reasons discussed, DOE has tentatively determined that the proposed labeling requirement (1) would be technologically and economically feasible; (2) would likely result in significant energy savings; and (3) would likely assist consumers in making purchasing decisions, as required by EPCA. Accordingly, DOE proposes to establish a labeling requirement for DPPP motors.

DOE seeks comment on the proposed requirement for DPPP motor manufacturers to label each DPPP motor with its measured energy efficiency on the motor's nameplate and to include that same information in marketing materials and catalogs, in addition to a statement indicating certification to UL 1004-10:2019, if applicable. Further, DOE seeks comment on whether this requirement is technologically and economically feasible, likely to result in significant energy savings, and likely to assist consumers in making purchasing decisions

DOE seeks data from manufacturers (and any other interested parties) regarding the cost of implementing the proposed labeling requirement, and the discrepancy between the costs DOE estimated to the costs estimated in the March 2019 Ex Parte Memo. Specifically, DOE requests the underlying information for how the March 2019 Ex Parte Memo estimated the costs to obtain a UL 1004-10:2019 label to be in the range of $30,000-$40,000 per motor manufacturer.

DOE also seeks comment on the degree to which the proposed labeling requirement should consider and be harmonized further with UL 1004-10:2019 or other relevant industry standards for DPPP motors, and whether any changes to the proposed Federal labeling requirement would provide additional benefits to the public. DOE also requests comment on the benefits and burdens of adopting any industry/voluntary consensus-based or other appropriate labeling requirements, without modification.

E. Reporting

DOE proposes to require that the permanent nameplates of DPPP motors be clearly marked with the energy efficiency of the motor. For DPPP motors that are certified to UL-1004:2019, DOE proposes to also require the statement, “Certified to UL 1004-10:2019”. Each manufacturer of equipment that would be covered under this proposal would be required to affix a label that meets, and is displayed in accordance with, the requirements of such rule. (42 U.S.C. 6315(a)-(d)) DOE is proposing that manufacturers or any distributor, retailer, or private labeler of DPPP motors be required to include the energy efficiency in any catalog from which a subject DPPP motor may be purchased, but is not proposing to require that such a catalog include the statement, “Certified to UL 1004-10:2019,” if applicable. (Id.) However, a manufacturer or any distributor, retailer, or private labeler may choose to include the “Certified to UL 1004-10:2019” statement, if applicable, in any catalog from which a subject DPPP motor may be purchased.

EPCA requires that each manufacturer of covered equipment to which a labeling rule under 42 U.S.C. 6315 applies must notify DOE—

(A) Of the models in current production (and starting serial numbers of those models) to which such rule applies not later than 60 days after the compliance date; and

(B) Prior to commencement of production, of all models subsequently produced (and starting serial numbers of those models) to which such rule applies. (42 U.S.C. 6316(a); 42 U.S.C. 6296(b)(1))

That is, for DPPP motors already being produced, manufacturers would be required to report such DPPP motors to DOE within 60 days following the compliance date (i.e., 12 months following publication of the final rule if the rule is finalized). For new DPPP motors (i.e., DPPP motors with a new manufacturer's model number ²⁷) produced after the effective date of a final rule (assuming it were finalized), manufacturers would be required to report to DOE prior to commencement of production.

²⁷ EPCA uses the term “starting serial number” (42 U.S.C. 6296(b)(1)). The reference to the “starting” serial number appears to be for the purpose of reporting the group of identical or essentially identical commercial equipment to which a particular unit belongs and to which the requirement applies, as opposed to reporting individual units. For consistency with DOE's Appliance Standards Program, DOE is using the term “manufacturer's model number” in lieu of the statutory term.

EPCA does not define “commencement of production” and DOE is proposing only to specify that “commencement of production” must be a date prior to the distribution of a DPPP motor in commerce for sale. The exact point at which production commences may be understood differently between manufacturers depending on production planning and strategies. Regardless, “commencement of production” occurs prior to a new DPPP motor (i.e., a DPPP motor with a new manufacturer's model number) being distributed in commerce for sale. DOE would require that a manufacturer report prior to distribution of a new DPPP motor in commerce for sale, allowing manufacturers to continue relying on their individual production planning and strategies. Additionally, a manufacturer would be required to report each manufacturer's model number for DPPP motors subject to the labeling requirement only once. This would not be an annual reporting requirement and there would be no requirement to report the discontinuance of a manufacturer's model number.

In addition to providing the manufacturer's model number, manufacturers would also be required to provide the associated brand name of the DPPP motor, the full load efficiency of the motor model as determined pursuant to the proposed test procedure, and whether the motor model is certified to UL 1004-10:2019. If a DPPP motor is certified to UL 1004-10:2019, a manufacturer would also be required to report the total horsepower and speed configuration of the motor as provided on the nameplate pursuant to the UL certification.

The report would also require submission of basic information such as the manufacturer's name and address. The report would also require inclusion of a reporting statement that includes the date, the name of the company official signing the statement, and his or her signature, title, address, telephone number, and email address; and a statement that: (1) All information reported in the report is true, accurate, and complete; and (2) the manufacturer is aware of the penalties associated with violations of EPCA, the regulations thereunder, and 18 U.S.C. 1001, which prohibits knowingly making false statements to the Federal Government. Reports would be submitted electronically through DOE's existing Certification Compliance Management System.

Manufacturers would be required to use reporting templates to report to DOE, within 60 days of the compliance date of any final rule, all subject DPPP motor models (reported according to the manufacturer's model number) in current production. Manufacturers would also be required to use reporting templates to report, prior to commencement of production, all subject DPPP motor with a previously unreported manufacturer's model number that are subsequently produced. To help interested parties better appreciate the proposed reporting requirement, a draft reporting template ²⁸ is included in the docket.

²⁸ A draft reporting template is included in the docket, identified by docket number EERE-2017-BT-STD-0048.

As discussed, DOE is proposing reporting requirements based in part on the “manufacturer's model number.” DOE defines “manufacturer's model number” as the identifier used by a manufacturer to uniquely identify the group of identical or essentially identical covered products or covered equipment to which a particular unit belongs. 10 CFR 429.2. The manufacturer's model number typically appears on the product nameplates, in product catalogs and in other product advertising literature. Id. If the UL certification status were to change for a DPPP motor for which a report was previously submitted (e.g., a DPPP motor that was previously reported as not certified to UL subsequently was certified) that DPPP motor would not be essentially identical to the covered equipment previously reported. Accordingly, a new manufacturer's model number would need to be assigned and a report submitted. DOE would expect that the change in the manufacturer's model number would be consistent with industry practice, as manufacturers would use different model numbers in marketing materials to distinguish between certified and non-certified equipment.

Additionally, DOE is proposing to permit third party submitters (e.g., a trade association, an independent laboratory, or other authorized representative) to submit the required notification reports. Manufacturers would still be responsible for the report's submission, and each manufacturer using a third party submitter would be required to have an authorization form on file with DOE. The authorization form would include a compliance statement as specified in 10 CFR 431.486, specify the third party authorized to submit notification reports on the manufacturer's behalf, and provide the contact information and signature of a company official of the manufacturer.

If DOE were to finalize the labeling rule as proposed, several acts would be prohibited. For example, EPCA provides that it is unlawful for any manufacturer or private labeler to distribute in commerce any new covered equipment required to bear a label unless such equipment is labeled as required; for any manufacturer, distributor, retailer, or private labeler to remove a required label; and for any manufacturer to fail to provide energy efficiency information required to be provided. (See 42 U.S.C. 6316(a); 42 U.S.C. 6302(a)(1)-(3))

DOE seeks comment on the proposed reporting requirement and the proposed reporting template.

DOE also requests comment on the proposal not to require that the statement “Certified to UL 1004-10:2019” be included in catalogs that sell a DPPP motor that is certified to UL 1004-10:2019, and not to require manufacturers to submit a certification report to DOE regarding a motor's compliance with UL 1004-10:2019, if applicable.

F. Test Procedure and Labeling Costs, Harmonization, and Other Topics

1. Test Procedure and Labeling Costs and Impact

EPCA requires that test procedures and labeling proposed by DOE not be unduly burdensome to conduct. In this NOPR, DOE proposes to incorporate by reference UL 1004-10:2019 to reference the definitions; incorporate by reference CSA C747-09 as the proposed test procedure; require the nameplate of a subject DPPP motor to include (1) the full load efficiency of the motor as determined under the proposed test procedure and (2) the statement, “Certified to UL 1004-10:2019,” if applicable; require catalogs and marketing materials include the full load efficiency of the motor; require manufacturers to notify DOE of the subject DPPP motor models in current production (according to the manufacturer's model number) and indicate whether the motor is certified to UL 1004-10:2019; require manufacturers to report to DOE the full load efficiency as represented on the nameplate; and if a DPPP motor is certified to UL 1004-10:2019, require manufacturers to report the total horsepower and speed configuration of the motor as provided on the nameplate pursuant to the UL 1004-10:2019 certification. DOE has tentatively determined that these proposed amendments would not be unduly burdensome for manufacturers to conduct.

DOE's analysis of this proposal indicates that, if finalized, it would result in a net cost to manufacturers.

TABLE III.1—Summary of Total Cost Impacts for DPPP Motors Using a 10-Year Time Horizon Discounted to 2020
[Thousands 2019$]
Category | Present value costs (3 percent) | Present value costs (7 percent)
One-time labeling costs | 49 | 47
Reporting and marketing costs | 23 | 19
Total Net Cost Impacts * | 71 | 66
* Values may not sum exactly due to rounding.

TABLE III.2—Summary of Annualized Cost Impacts for DPPP Motors Using a 10-Year Time Horizon Discounted to 2020
[Thousands 2019$]
Category | Annualized costs (3 percent) | Annualized costs (7 percent)
One-time labeling costs | 5.7 | 6.7
Reporting and marketing costs | 2.7 | 2.7
Total Net Annualized Cost Impacts * | 8.4 | 9.3
* Values may not sum exactly due to rounding.

Further discussion of the cost impacts of the proposed test procedure and labeling amendments are presented in the following paragraphs.

a. Incorporate by Reference UL 1004-10:2019

DOE proposes to incorporate by reference UL 1004-10:2019 without modification to reference the definitions published in UL 1004-10:2019, as generally recommended by the Joint Petitioners. UL 1004-10:2019 establishes definitions and marking requirements for certain pool pump motors and describes methods to verify the information conveyed by those required markings. Incorporating by reference UL 1004-10:2019 would harmonize DOE's test procedure and labeling requirement with current industry practice. Therefore, DOE has tentatively determined that the proposal to incorporate by reference UL 1004-10:2019 without modification would not be unduly burdensome for manufacturers and therefore would not incur any additional costs.

DOE requests comment on the tentative conclusion that there are no impacts and associated costs of incorporating by reference UL 1004-10:2019.

b. Incorporate by Reference CSA C747-09

DOE proposes to incorporate by reference CSA C747-09 as the prescribed test method for evaluating the energy efficiency of those electric motors used in DPPP applications. CSA C747-09 is an industry-accepted test procedure that measures the energy efficiency of certain motors, and is applicable to DPPP motors in scope sold in North America. California Title 20 regulations for pool pumps require manufacturers to submit the motor efficiency that shall be verifiable by IEEE 114-2001.²⁹ The 2018 International Swimming Pool and Spa Code, which is in use or adopted in 23 states, references the APSP energy standard APSP-15, “Residential Swimming Pool and Spa Energy Efficiency.” APSP-15 states that the reported DPPP motor efficiency shall be verifiable by IEEE 114. As noted in section III.D.1 of this NOPR, CSA C747-09 is equivalent to the IEEE 114-2010 test methods and provides comparable energy efficiency measurements. Further, manufacturers already test DPPP motors using the proposed test procedure, as California recently adopted regulations that require DPPP motors to be tested according to CSA C747-09. Accordingly, were the test procedure finalized as proposed, the DOE test procedure would not add any additional costs to manufacturers that are testing equipment using the industry test procedure prescribed in CSA C747-09, and would not be unduly burdensome.

²⁹ In the new CEC regulations for DPPP motors adopted on April 20, 2020, the CEC uses CSA C747-09 as the test method for all DPPP motors, acknowledging that the CSA C747-09 test method provides a better test method than IEEE 114-01. Specifically, CSA C747-09 is intended for all types of small motors, while the IEEE 114-01 includes only single-phase AC induction motors. In addition, CSA C747-09 allows multiple motor speeds, while the IEEE 114-01 allows for only full-speed motor testing. CEC Final Analysis of Efficiency Standards for Replacement Dedicated-Purpose Pool Pump Motors; Docket Number 19-AAER-02; Published February 2020.

DOE requests comment on the tentative conclusion that there are no impacts and associated costs of incorporating by reference CSA C747-09 as the test procedure for DPPP motors.

c. Nameplate Labeling Requirement

DOE proposes to require the nameplate of a subject DPPP motor to include (1) the full load efficiency of the motor as determined under the proposed test procedure, and (2) the statement, “Certified to UL 1004-10:2019,” for DPPP motors that are certified to UL 1004-10:2019,

As discussed in section III.D.4 of this NOPR, manufacturers currently include nameplates on electric motors that would be classified as DPPP motors under the proposed rule. Therefore, the additional costs for the labeling proposal would be in relation to the label redesign, which includes the development of a new label layout by an internal resource, production of test samples, an internal committee meeting to approve final designs, and implementation across the assembly lines. DOE estimates the one-time manufacturer conversion costs associated with label redesign to be $10,000 per DPPP motor manufacturer. DOE estimates there are five DPPP motor manufacturers. This estimate was based on a review of catalogs and websites of motor manufacturers that were identified in the previous rulemaking pertaining to small electric motors and electric motors to determine if they manufactured DPPP motors. Therefore, DOE estimates the total cost to industry is $50,000.³⁰

³⁰ The $50,000 is in 2019$ and is scheduled to occur in the estimated compliance year of 2021.

DOE seeks comment on its understanding of the estimated impact and associated costs to DPPP motor manufacturers from the proposed nameplate labeling requirement.

d. Energy Efficiency Disclosure Requirement

DOE proposes that the equipment catalog and other marketing materials include the full load energy efficiency of the DPPP motor. DOE estimates that DPPP motor manufacturers would be required to include more information than some DPPP motor manufacturers currently include. Therefore, DOE estimates that DPPP motor manufacturers would incur an additional burden to include this value on all equipment catalogs and marketing materials. DOE estimates that each DPPP motor manufacturer would spend approximately four additional hours annually to include this value on all equipment catalogs and marketing materials for all DPPP motor models. DOE used data from the Bureau of Labor Statistics to estimate the hourly wage of an employee responsible for updating these equipment catalogs and marketing materials. DOE estimated an hourly wage of $34.41 based on this data.³¹ To include the full cost of employment to an employer, DOE used data from the Annual Survey of Manufacturers, for North American Industry Classification System (“NAICS”) code 335312 “motor and generator manufacturing.” For this NAICS code wages represent approximately 77.2 percent of the total cost of employment for a manufacturer.³² Therefore, DOE used $44.57 ($34.41/0.772) as the hourly fully-burdened labor rate for a “marketing specialist” or equivalent employee performing this task. DOE estimates there are five DPPP motor manufacturers. Therefore, DOE estimates the total cost to industry is an additional $891 annually to comply with this proposed test procedure amendment.³³

³¹ Bureau of Labor Statistics mean hourly wage rate for Market Research Analysts and Marketing Specialists, May 2019— https://www.bls.gov/oes/current/oes131161.htm. Last accessed 6/1/2020.

³² Based on 2015 and 2016 annual payroll and total fringe benefits data. https://www.census.gov/data/tables/2016/econ/asm/2016-asm.html. Last accessed 6/1/2020.

³³ The annual $891 cost is in 2019$ and is scheduled to occur every year after the estimated compliance year of 2021.

DOE seeks comment on its understanding of the estimated impact and associated costs to DPPP motor manufacturers due to the proposed equipment catalog and marketing material updates.

e. Reporting Requirement

DOE proposes that manufacturers would be required to use reporting templates to report to DOE, within 60 days of the compliance date of any final rule, all subject DPPP motor models (reported according to the manufacturer's model number) in current production, and indicate whether the motor is certified to UL 1004-10:2019. Furthermore, manufacturers would be required to use the reporting template to report to DOE the full load efficiency as represented on the nameplate, and if a DPPP motor is certified to UL 1004-10:2019, the total horsepower and speed configuration of the motor as provided on the nameplate pursuant to the UL 1004-10:2019 certification. In addition, manufacturers would also be required to use reporting templates to report, prior to commencement of production, all subject DPPP motor with a previously unreported manufacturer's model number that are subsequently produced. However, a manufacturer would be required to report each manufacturer's model number for DPPP motors subject to the labeling requirement and the associate representations only once; this would not be an annual reporting requirement and there would be no requirement to report the discontinuance of a manufacturer's model number. A draft reporting template is included in the docket.

DOE estimates that the reporting to DOE would require approximately eight hours of time from a product/compliance/design engineer for each DPPP motor manufacturer every year, as new DPPP motor models are estimated to be introduced each year. Manufacturers would be required to report the manufacturer's model numbers of the DPPP motors subject to the reporting requirement, indicate whether the motor is certified to UL 1004-10:2019, and report the full load efficiency as represented on the nameplate, which is information manufacturers would be expected to already have. If a DPPP motor is certified to UL 1004-10:2019, manufacturers would be required to report the total horsepower and speed configuration of the motor as provided on the nameplate pursuant to the UL 1004-10:2019 certification, which also is information manufacturers would be expected to already have. DOE used the same labor cost estimates used in the previous section, III.F.1.d of this NOPR. DOE again used $44.57 as the hourly fully-burdened labor rate for a marketing specialist to perform this task. DOE estimates there are five DPPP motor manufacturers. Therefore, DOE estimates the total cost to industry is approximately $1,783 annually to comply with this proposed test procedure amendment.³⁴

³⁴ The annual $1,783 cost is in 2019$ and is scheduled to occur every year after the estimated compliance year of 2021.

DOE seeks comment on its understanding of the estimated impact and associated costs to DPPP motor manufacturers due to the proposed reporting requirement.

2. Harmonization with Industry Standards

On February 14, 2020, DOE finalized its rule, “Procedures for Use in New or Revised Energy Conservation Standards and Test Procedures for Consumer Products and Commercial/Industrial Equipment” (“the Process Rule”). (85 FR 8626) The Process Rule requires DOE to adopt industry test standards as DOE test procedures for covered products and equipment, unless such methodology would be unduly burdensome to conduct or would not produce test results that reflect the energy efficiency, energy use, water use (as specified in EPCA) or estimated operating costs of that equipment during a representative use cycle. Section 8(c) of appendix A 10 CFR part 430, subpart C; 10 CFR 431.4.³⁵ In cases where the industry standard does not meet EPCA statutory criteria for test procedures, DOE will make modifications through the rulemaking process to these standards as the DOE test procedure.

³⁵ This practice implements the National Technology Transfer and Advancement Act and OMB Circular A-119 with respect to the adoption of industry standards. (See 85 FR 8679-8680).

The proposed test procedures for DPPP motors at new subpart Z to part 431 would incorporate by reference the test standard CSA C747-09 (reaffirmed in 2014), Energy Efficiency Test Methods for Small Motors, without modification. CSA C747-09 is an industry-accepted test procedure that measures the energy efficiency of certain motors, and is applicable to DPPP motors in scope sold in North America. CSA C747-09 includes specifications for the test setup, instrumentation, test conduct, and calculations. DOE also proposes to incorporate by reference UL 1004-10:2019, Outline of Investigation for Pool Pump Motors, without modification, to reference the definitions published in the same standard. UL 1004-10:2019 establishes definitions and marking requirements for certain pool pump motors and describes methods to verify the information conveyed by those required markings.

DOE requests comments on the benefits and burdens of the proposed updates and additions to industry standards referenced in the test procedure for DPPP motors.

DOE has identified two additional industry standards that are relevant to DPPP motors but has tentatively determined that they are not appropriate for the purpose of this proposal. As discussed in section III.D.1, IEEE 114-2010, Test Procedures for Single Phase Motors, and IEEE 112-2017, Test procedures for Polyphase Induction Motors and Generators, are alternative industry test procedures that are relevant for this NOPR. However, IEEE 114-2010 is applicable only to single phase AC induction motors tested at full speed, and cannot be applied to the entire range of pool pump motors addressed in this NOPR. Furthermore, IEEE 112-2017 provides test procedures for AC induction polyphase motors without drives and is not applicable to DPPP motors as defined in this proposal, given the proposed exemption for polyphase motors.

3. Other Test Procedure Topics

In addition to the issues identified earlier in this document, DOE welcomes comment on any other aspect of the proposed test procedure and labeling requirements for DPPP motors. Note that DOE also issued an RFI to seek more information on whether its test procedures are reasonably designed, as required by EPCA, to produce results that reflects the energy use or efficiency of a product during a representative average use cycle. 84 FR 9721 (Mar. 18, 2019). DOE particularly seeks comment on this issue as it pertains to the test procedure for DPPP motors, as well as information that would help DOE create a test procedure that is not unduly burdensome to conduct. Comments regarding repeatability and reproducibility are also welcome. DOE also recently published an RFI on the emerging smart technology appliance and equipment market. 83 FR 46886 (Sept. 17, 2018). In that RFI, DOE sought information to better understand market trends and issues in the emerging market for appliances and commercial equipment that incorporate smart technology. DOE's intent in issuing the RFI was to ensure that DOE did not inadvertently impede such innovation in fulfilling its statutory obligations in setting efficiency standards for covered products and equipment. In this NOPR, DOE seeks comment on the same issues presented in the RFI as they may be applicable to DPPP motors.

DOE also requests information that would help DOE create procedures and labeling requirements that would limit manufacturer burden through streamlining or simplifying requirements, while complying with the requirements of EPCA. In particular, DOE notes that under Executive Order 13771, “Reducing Regulation and Controlling Regulatory Costs,” Executive Branch agencies such as DOE must manage the costs associated with the imposition of expenditures required to comply with Federal regulations. See 82 FR 9339 (Feb. 3, 2017). Consistent with that Executive Order, DOE encourages the public to provide input on measures DOE could take to lower the cost of its regulations applicable to DPPP motors consistent with the requirements of EPCA.

G. Compliance and Effective Dates

EPCA prescribes that, if DOE establishes or amends a test procedure, all representations of energy efficiency and energy use, including those made on marketing materials and product labels, must be made in accordance with that test procedure, beginning 180 days after publication of such a test procedure final rule in the Federal Register. (42 U.S.C. 6314(d)(1))

If DOE were to establish a new, or amend an existing test procedure, EPCA provides an allowance for individual manufacturers to petition DOE for an extension of the 180-day period to begin making representations if the manufacturer may experience undue hardship in meeting the deadline. (42 U.S.C. 6314(d)(2)) To receive such an extension, petitions must be filed with DOE no later than 60 days before the end of the 180-day period and must detail how the manufacturer will experience undue hardship. (Id.)

EPCA also requires DOE to prescribe a labeling rule for electric motors no later than 12 months after DOE prescribes a test procedure for that equipment. (42 U.S.C. 6315(d)). The labeling rule shall provide that the labeling of any electric motor manufactured after the 12-month period beginning on the date DOE prescribes the rule shall require the disclosure of certain information—i.e. the motor's energy efficiency (through a permanent nameplate attached to the motor), the motor's energy efficiency in equipment catalogs and other marketing materials, and any other markings determined necessary by the Secretary to facilitate enforcement of the standards established under 42 U.S.C. 6313. (Id.) EPCA also provides that a labeling rule will take effect no later than 3 months after the date the rule is prescribed, unless DOE determines that an extension is necessary to allow adequate time for compliance with the rule. If DOE determines that an extension is necessary, the effective date of the rule can be no more than 6 months after the date of its prescription. (42 U.S.C. 6315(g)(2)).

EPCA outlines three distinct dates in regard to compliance and effective dates of a labeling rule for electric motors. First, the date the labeling rule is established must be no later than 12 months after the corresponding test procedure for that electric motor is prescribed—which DOE views as the date of publication in the Federal Register. (42 U.S.C. 6315(d)) Consistent with this requirement, DOE proposes to promulgate the test procedure and labeling requirement in the same rulemaking, which means that both rulemakings will fall within the 12-month period provided in 42 U.S.C. 6315(d). Second, EPCA sets an effective date (i.e. the date on which a rule will becomes effective) for labeling rules of no more than three months after the date the labeling rule is prescribed except if DOE determines an extension is necessary to allow for compliance with the rule—in which case, the effective date may be extended for an additional 3 months. (42 U.S.C. 6315(g)(2)) The effective date of a labeling rule will be 60 days after the rule is published in the Federal Register. Finally, EPCA provides for a 12-month period, beginning on the date on which the labeling rule is prescribed, before compliance is required. (See 42 U.S.C. 6315(d)) Accordingly, the compliance date for a labeling rule would be 12 months after the final labeling requirement is published in the Federal Register.

H. Consultation with the Federal Trade Commission

Before prescribing any labeling rule for covered equipment, including DPPP motors, the Secretary must consult with, and obtain the written views of, the Federal Trade Commission (“FTC”) with respect to such rules. (42 U.S.C. 6315(f)) The FTC shall promptly provide such written views upon the request of the Secretary. (Id.) Prior to publishing this proposal, DOE consulted with the FTC, and DOE is actively seeking the written views of the FTC.

IV. Procedural Issues and Regulatory Review

A. Review Under Executive Order 12866

The Office of Management and Budget (OMB) has determined that this rulemaking constitutes a “significant regulatory action” under section 3(f) of Executive Order 12866, Regulatory Planning and Review, 58 FR 51735 (Oct. 4, 1993). Accordingly, this action was subject to review under the Executive Order by the Office of Information and Regulatory Affairs (OIRA) in OMB. Accordingly, pursuant to section 6(a)(3)(B) of the Order, DOE has provided to OIRA: (i) The text of the draft regulatory action, together with a reasonably detailed description of the need for the regulatory action and an explanation of how the regulatory action will meet that need; and (ii) An assessment of the potential costs and benefits of the regulatory action, including an explanation of the manner in which the regulatory action is consistent with a statutory mandate.

In this NOPR, DOE proposes to incorporate by reference UL 1004-10:2019 to reference the definitions; incorporate by reference CSA C747-09 as the proposed test procedure; require the nameplate of a subject DPPP motor (1) to include the full load efficiency of the motor as determined under the proposed test procedure and (2) if the subject DPPP motor is certified to UL-1004:2019, to include the statement, “Certified to UL 1004-10:2019”; require catalogs and marketing materials include the full load efficiency of the motor; require manufacturers to notify DOE of the subject DPPP motor models in current production (according to the manufacturer's model number) and indicate whether the motor is certified to UL 1004-10:2019; require manufacturers to report to DOE the full load efficiency as represented on the nameplate; and if a DPPP motor is certified to UL 1004-10:2019, require manufacturers to report the total horsepower and speed configuration of the motor as provided on the nameplate pursuant to the UL 1004-10:2019 certification.

The inclusion of the statement “Certified to UL 1004:10-2019,” if applicable, would be likely to assist purchasers, as it provides purchasers additional information about the energy efficiency of the product. (See 42 U.S.C. 6315(c)(2)) Further, the statement on the nameplate would also inform purchasers that the equipment conforms to the industry standard for DPPP motors. Additionally, certification to UL 1004-10:2019 specifies that the nameplate on the DPPP motor include the total output power and speed configuration of the motor. This information would allow consumers to compare replacement motor models with the specifications of motors that are currently installed in their DPPPs, allowing for replacement with motors of comparable energy efficiency and speed capability.

DOE estimates that the proposed labeling requirements would save 1.0 quadrillion British thermal units (quads) of energy over a 30-year period (2021-2050). The total energy savings from this proposed labeling rule can be broken down into two segments: (1) The preserved energy savings from the January 2017 Direct Final Rule (0.8 quads) and (2) additional energy savings (0.2 quads) from an increase in shipments of compliant pool pumps and pool pump motors. The January 2017 Direct Final Rule assumed that, even in the absence of DPPP motor requirements, all consumers purchasing pool pumps after 2021 would select replacement motors that are as efficient as the motors sold in the original pump and included the savings originating from the sales of replacement motors in the total energy savings for this rule. Considering the recent inputs from interested parties, DOE determined that a labeling rule is necessary to ensure these energy savings are preserved (0.8 quads). The additional energy savings (0.2 quads) are attributable to DPPPs that were manufactured prior to the DPPP energy conservation standards compliance date (i.e. July 19, 2021) that are repaired with replacement motors sold in or after 2021, and by an increase of shipments of compliant pool pumps (incorporating DPPP motors).

This energy savings estimate assumes all consumers would select replacement motors that are as efficient as motors sold in compliant pool pumps (i.e., compliant with the standards at 10 CFR 431.465(f)) and certified to UL 1004-10:2019. If consumers select replacement motors that are not as efficient as motors sold in compliant pool pumps and are not certified to UL 1004-10:2019, then the energy savings would be less than estimated in this analysis. The calculations for the energy savings estimates are provided in a spreadsheet published in the rulemaking docket.

DOE has also tentatively determined that the proposed amendments would not be unduly burdensome for manufacturers to conduct. DOE's analysis of this proposal indicates that, if finalized, it would result in a net cost to manufacturers, as provided in Table IV.1 and IV.2 of this NOPR.

TABLE IV.1—Summary of Total Cost Impacts for DPPP Motors Using a 10-Year Time Horizon Discounted to 2020
[Thousands 2019$]
Category | Present value costs (3 percent) | Present value costs (7 percent)
One-time labeling costs | 49 | 47
Reporting and marketing costs | 23 | 19
Total Net Cost Impacts * | 71 | 66
* Values may not sum exactly due to rounding.

TABLE IV.2—Summary of Annualized Cost Impacts for DPPP Motors using a 10-Year Time Horizon Discounted to 2020
[thousands 2019$]
Category | Annualized costs (3 percent) | Annualized costs (7 percent)
One-time labeling costs | 5.7 | 6.7
Reporting and marketing costs | 2.7 | 2.7
Total Net Annualized Cost Impacts* | 8.4 | 9.3
* Values may not sum exactly due to rounding.

As discussed in the prior sections, as required under EPCA DOE has tentatively determined that (1) the proposed labeling requirement is technologically and economically feasible with respect to any particular equipment class; (2) significant energy savings will likely result from such labeling; and (3) labeling in accordance with section 6315 is likely to assist consumers in making purchasing decisions. (42 U.S.C. 6315(h))

B. Review Under Executive Orders 13771 and 13777

On January 30, 2017, the President issued E.O. 13771, “Reducing Regulation and Controlling Regulatory Costs.” See 82 FR 9339 (Feb. 3, 2017). E.O. 13771 stated the policy of the executive branch is to be prudent and financially responsible in the expenditure of funds, from both public and private sources. E.O. 13771 stated it is essential to manage the costs associated with the governmental imposition of private expenditures required to comply with Federal regulations.

Additionally, on February 24, 2017, the President issued E.O. 13777, “Enforcing the Regulatory Reform Agenda.” 82 FR 12285 (March 1, 2017). E.O. 13777 required the head of each agency designate an agency official as its Regulatory Reform Officer (RRO). Each RRO oversees the implementation of regulatory reform initiatives and policies to ensure that agencies effectively carry out regulatory reforms, consistent with applicable law. Further, E.O. 13777 requires the establishment of a regulatory task force at each agency. The regulatory task force is required to make recommendations to the agency head regarding the repeal, replacement, or modification of existing regulations, consistent with applicable law. At a minimum, each regulatory reform task force must attempt to identify regulations that:

(i) Eliminate jobs, or inhibit job creation;

(ii) Are outdated, unnecessary, or ineffective;

(iii) Impose costs that exceed benefits;

(iv) Create a serious inconsistency or otherwise interfere with regulatory reform initiatives and policies;

(v) Are inconsistent with the requirements of the Information Quality Act, or the guidance issued pursuant to that Act, in particular those regulations that rely in whole or in part on data, information, or methods that are not publicly available or that are insufficiently transparent to meet the standard for reproducibility; or

(vi) Derive from or implement Executive Orders or other Presidential directives that have been subsequently rescinded or substantially modified.

DOE initially concludes that this rulemaking is consistent with the directives set forth in these executive orders. This proposed rule is estimated to result in a net cost, yielding annualized costs of approximately $4,300 using a perpetual time horizon discounted to 2016 at a 7 percent discount rate. This is the annualized cost in 2016$, discounted to 2016, for the E.O. 13771 purpose of comparing rules' costs across years, and is not to be confused with the annualized values reported in section IV.A above, which are for the E.O. 12866 purpose of benefit-cost analysis. Therefore, if finalized as proposed, this rule is expected to be an E.O. 13771 regulatory action.

C. Review Under the Regulatory Flexibility Act

The Regulatory Flexibility Act (5 U.S.C. 601 et seq.) requires preparation of an initial regulatory flexibility analysis (IRFA) for any rule that by law must be proposed for public comment, unless the agency certifies that the rule, if promulgated, will not have a significant economic impact on a substantial number of small entities. As required by Executive Order 13272, “Proper Consideration of Small Entities in Agency Rulemaking,” 67 FR 53461 (August 16, 2002), DOE published procedures and policies on February 19, 2003, to ensure that the potential impacts of its rules on small entities are properly considered during the DOE rulemaking process. 68 FR 7990. DOE has made its procedures and policies available on the Office of the General Counsel's website: http://energy.gov/gc/office-general-counsel.

DOE reviewed this proposed rule to establish a test procedure and a labeling requirement for DPPP motors under the provisions of the Regulatory Flexibility Act and the procedures and policies published on February 19, 2003. DOE uses the Small Business Administration's (SBA) small business size standards to determine whether manufacturers qualify as small businesses, which are listed by the North American Industry Classification System (NAICS). The SBA considers a business entity to be a small business, if, together with its affiliates, it employs less than a threshold number of workers specified in 13 CFR part 121. The 2017 NAICS code for DPPP motors is 335312, motor and generator manufacturing. The threshold number for NAICS code 335312 is 1,250 employees.³⁶ This employee threshold includes all employees in a business's parent company and any other subsidiaries.

³⁶ https://www.sba.gov/document/support-table-size-standards. Last accessed on 6/1/2020.

DOE identified five DPPP motor manufacturers that sell DPPP motors in the United States. Among these, DOE determined that four of these DPPP motor manufacturers each have more than 1,250 total employees and therefore do not met SBA's definition of a “small business.” DOE determined that one DPPP motor manufacturer has fewer than 1,250 total employees and potentially meets SBA's definition of a “small business.”

DOE estimates that this one potential small business would incur costs associated with a label redesign, which includes the development of a new label layout by an internal resource, production of test samples, an internal committee meeting to approve final designs, and implementation across the assembly lines. DOE estimates the one-time manufacturer conversion costs associated with the proposed label redesign to be $10,000 for this one potential small business.

In addition to this one-time cost, the one potential small business would incur a burden to include the full load energy efficiency of the DPPP motor on all equipment catalogs and marketing materials prior to the compliance year and for all years new DPPP motors are introduced into the market. DOE estimates that this one potential small business would spend approximately four additional hours to include this value on all equipment catalogs and marketing materials for all DPPP motor models introduced each year. DOE used data from the Bureau of Labor Statistics to estimate the hourly fully- burdened labor rate of $44.57 for an employee responsible for updating these equipment catalogs and marketing materials.³⁷ Therefore, DOE estimates that the total cost for this one potential small business to comply with this proposed energy efficiency disclosure requirement is $178.

³⁷ The fully-burdened labor rate is in 2019$. DOE used the Bureau of Labor Statistics mean hourly wage rate of $34.41 for a Market Research Analysts and Marketing Specialists, May 2019— https://www.bls.gov/oes/current/oes131161.htm. Last accessed 6/1/2020.

Additionally, DOE used data from the American Survey of Manufacturers to calculate that wages represent 77.2 percent of total employer compensation, based on the 2015 and 2016 annual payroll and total fringe benefits data. https://www.census.gov/data/tables/2016/econ/asm/2016-asm.html. Last accessed 6/1/2020.

Therefore, DOE used an hourly fully-burdened labor rate of $44.57 = $34.41/0.772.

Lastly, the one potential small business would incur an additional burden to report to DOE all subject DPPP motor models (reported according to the manufacturer's model number) in current production, regardless of whether the motor is certified to UL 1004-10:2019, the full load efficiency as represented on the nameplate, and if a DPPP motor is certified to UL 1004-10:2019, the total horsepower and speed configuration of the motor as provided on the nameplate pursuant to the UL 1004-10:2019 certification. The same additional burden to report to DOE would be applicable for all years new DPPP motors are introduced into the market. DOE estimates that this one potential small business would spend approximately eight hours to complete this report to DOE. DOE again used $44.57 as the hourly fully-burdened labor rate for an employee to perform this task. Therefore, DOE estimates that the total cost for this potential small business to comply with this proposed reporting requirement is $357.

DOE estimates that the remainder of this proposal would be unlikely to cause any DPPP motor manufacturer, including this potential small business DOE identified, to incur any additional costs. Therefore, DOE estimates that total cost incurred by this one potential small business in any one year would be approximately $10,535 due to the proposed requirements in this NOPR. DOE estimates the annual revenue of this one potential small business is approximately $35 million. These costs represent significantly less than one percent of the small business's annual revenue. Consequently, on the basis of this information, DOE initially concludes that this proposal would not have a significant economic impact on this one potential small business.

Therefore, DOE certifies that the impacts of the proposed nameplate labeling requirement, energy efficiency disclosure requirement, and reporting requirement in this NOPR would not have a “significant economic impact on a substantial number of small entities,” and that the preparation of an IRFA is not warranted. DOE will transmit the certification and supporting statement of factual basis to the Chief Counsel for Advocacy of the Small Business Administration for review under 5 U.S.C. 605(b).

DOE seeks comment on its initial conclusion regarding the existence of only one small business (i.e., one with fewer than 1,250 total employees) that manufactures DPPP motors in the United States. Additionally, DOE seeks comment on its initial conclusion that this proposal would not have a significant economic impact on this one small business.

D. Review Under the Paperwork Reduction Act of 1995

Under the procedures established by the Paperwork Reduction Act of 1995 (PRA), a person is not required to respond to a collection of information by a Federal agency unless the collection displays a valid OMB control number. This proposed labeling rule would require manufacturers of DPPP motors subject to the proposed requirements to provide a label on the subject DPPP motor, disclose the full load energy efficiency in catalogs and marketing materials, report to DOE the manufacturer's model numbers of such DPPP motors that they manufacturer and whether the motor is certified to UL 1004-10:2019, report to DOE the full load efficiency as represented on the nameplate, and if a DPPP motor is certified to UL 1004-10:2019, the total horsepower and speed configuration of the motor as provided on the nameplate pursuant to the UL 1004-10:2019 certification. The collection-of-information requirement as proposed is subject to review and approval by OMB under the PRA.

In accordance with the PRA, DOE is requesting OMB approval for the new information collection to require the labeling and reporting of DPPP motors.

1. Description of the Requirements

In this NOPR, DOE is proposing to require manufacturers of DPPP motors: Label such motors with the full load efficiency of the motor as determined pursuant to the specified DOE test procedure and the following statement, for DPPP motors that are certified to UL 1004-10:2019: “Certified to UL 1004-10:2019;” disclose the full load energy efficiency in marketing materials; report to DOE the manufacturer's model number of equipment subject to the DPPP motor requirements and whether the motor is certified to UL 1004-10:2019; and report to DOE the full load efficiency as represented on the nameplate, and if a DPPP motor is certified to UL 1004-10:2019, the total horsepower and speed configuration of the motor as provided on the nameplate pursuant to the UL 1004-10:2019 certification.

2. Information Collection Request Title

Labeling, Disclosure, and Reporting Requirement for Dedicated-Purpose Pool Pump Motors.

3. Type of Request

This is a new collection.

4. Purpose

The collection-of-information requirement for the labeling, disclosure, and reporting proposal is subject to review and approval by OMB under the PRA. If the proposed rule is made final, DOE proposes that not later than 60 days after the compliance date (i.e., 12 months following the final rule, if a final rule were issued), each manufacturer of a DPPP motor subject to the labeling requirement would be required to notify DOE of the models in current production (according to the manufacturer's model number) to which the rule applies and report the subject representations made on the DPPP motor nameplates. (42 U.S.C. 6316(a); 42 U.S.C. 6296(b)(1)(A); 42 U.S.C. 6296(d)) Not later than 12 months after the date a final rule is published, manufacturers would be required to include on a label for DPPP motors subject to the final rule the full load efficiency and disclose the full load efficiency in any catalogs and other marketing materials. Further, as required by EPCA, prior to the commencement of production of models subsequently produced to which the rule applies and for which the manufacturer's model number has not previously been reported, manufacturers would be required to report such models (according to the manufacturer's model numbers of those models and the subject representations made on the DPPP motor nameplates) to DOE. (42 U.S.C. 6316(a); 42 U.S.C. 6296(b)(1)(B); 42 U.S.C. 6296(d))

Manufacturers are not likely to require any significant capital costs to comply with the amendments. Manufacturers are already affixing a nameplate to the DPPP motors that are the subject of this proposed requirement in accordance with industry standards. DOE also estimates that the manufacturers already maintain records regarding the DPPP motors manufactured, including the associated manufacturer's number, as part of their standard business practice. In addition, manufacturers currently maintain the specifications of motors as part of their testing of models pursuant to the industry standards. Finally, DOE notes that the UL certification program requires manufacturers to retain records necessary to demonstrate compliance with the UL certification/mark program. If the proposal were made final, manufacturers would be required to maintain records subject to 10 CFR 429.71, which requires that the records shall be retained by the manufacturer for a period of two years from the date that the manufacturer or third party submitter has notified DOE that the model has been discontinued in commerce. 10 CFR 429.71(c). The records retention period would provide that documentation necessary to demonstrate compliance is maintained by manufacturers while equipment is available on the market. DOE expects that manufacturers would be able to rely on their current systems of record retention for the proposed requirements, if finalized. Accordingly, the proposal in this NOPR would not result in an increase in manufacturer burden with regard to record retention.³⁸

³⁸ UL Mark Surveillance Requirements. https://legacy-uploads.ul.com/wp-content/uploads/2014/04/ul_surveillance_requirements.pdf

One-Time Burden Hours—Labeling:

(1) Estimated Number of Respondents: Five.

(2) Estimated Number of Total Responses: DOE estimates that it will cost manufacturers approximately $10,000 per manufacturer to redesign the nameplates currently affixed to DPPP motors to provide the information that would be required under this proposed rule. According, DOE estimates the one-time labeling burden will be $50,000 (5 manufacturers × $10,000).

(3) One-Time Labeling Cost Burden: $50,000 ($10,000 per manufacturer).

Annual Burden Hours—Marketing Material Disclosures:

(1) Annual Estimated Number of Respondents: Five.

(2) Annual Estimated Number of Total Responses: DOE estimates that the DPPP motor manufacturers each require approximately 4 hours annually to update catalogs and marketing materials to incorporate the full load efficiency values. Thus, the total annual disclosure burden to update catalogs and marketing materials for DPPP motors covered by the proposed rule is 20 hours annually (5 manufacturers × 4 hours).

(3) Annual Marketing Material Disclosure Cost Burden: $891 ($44.57 per hour).

Annual Burden Hours—Reporting:

(1) Annual Estimated Number of Respondents: Five.

(2) Annual Estimated Number of Total Responses: Five (One report per manufacturer).

(3) Annual Estimated Number of Burden Hours: DOE estimates that the DPPP motor manufacturers each require approximately 8 hours annually to report to DOE the subject DPPP motor models either in current production or subsequently produced, an indication whether the motor is certified to UL 1004-10:2019, the full load efficiency as represented on the nameplate, and if a DPPP motor is certified to UL 1004-10:2019, the total horsepower and speed configuration of the motor as provided on the nameplate pursuant to the UL 1004-10:2019 certification. Thus, the total annual disclosure burden to report these models to DOE for DPPP motors covered by the proposed rule is 40 hours annually (5 manufacturers × 8 hours).

(4) Annual Estimated Reporting Cost Burden: $1,783 ($44. 57 per hour).

Thus, the estimated one-time burden attributable to the proposed rule is $450,000 for labeling (5 manufacturers × $10,000). Additionally, the estimated annual burden attributable to the proposed rule is 60 hours for marketing and reporting requirements (4 hours for marketing materials × 5 manufacturers plus 8 hours for reporting × 5 manufacturers). The annual burden cost is approximately $2,674 (60 hours × $44.57).

DOE requests comment on its estimates of the total annual hour and cost burdens resulting from collection of information requirement for the labeling, disclosure, and reporting proposal.

Please submit any comments to DOE according to the instructions provided under the DATES and ADDRESSES sections of this document.

Notwithstanding any other provision of the law, no person is required to respond to, nor shall any person be subject to a penalty for failure to comply with, a collection of information subject to the requirements of the PRA, unless that collection of information displays a currently valid OMB Control Number.

E. Review Under the National Environmental Policy Act of 1969

DOE is analyzing this proposed regulation in accordance with the National Environmental Policy Act of 1969 (NEPA) and DOE's NEPA implementing regulations (10 CFR part 1021). DOE's regulations include a categorical exclusion for rulemakings interpreting or amending an existing rule or regulation that does not change the environmental effect of the rule or regulation being amended. 10 CFR part 1021, subpart D, Appendix A5. DOE anticipates that this rulemaking qualifies for categorical exclusion A5 because it is an interpretive rulemaking that does not change the environmental effect of the rule and otherwise meets the requirements for application of a categorical exclusion. See 10 CFR 1021.410. DOE will complete its NEPA review before issuing the final rule. In this proposed rule, DOE proposes a test procedure for dedicated-purpose pool pump motors. DOE has determined that this rule falls into a class of actions that are categorically excluded from review under the National Environmental Policy Act of 1969 (42 U.S.C. 4321 et seq.) and DOE's implementing regulations at 10 CFR part 1021. Specifically, DOE has determined that adopting test procedures for measuring energy efficiency of consumer products and industrial equipment is consistent with activities identified in 10 CFR part 1021, Appendix A to Subpart D, A5 and A6. Accordingly, neither an environmental assessment nor an environmental impact statement is required.

F. Review Under Executive Order 13132, “Federalism”

Executive Order 13132, “Federalism,” 64 FR 43255 (August 4, 1999) imposes certain requirements on agencies formulating and implementing policies or regulations that preempt State law or that have Federalism implications. The Executive Order requires agencies to examine the constitutional and statutory authority supporting any action that would limit the policymaking discretion of the States and to carefully assess the necessity for such actions. The Executive Order also requires agencies to have an accountable process to ensure meaningful and timely input by State and local officials in the development of regulatory policies that have Federalism implications. On March 14, 2000, DOE published a statement of policy describing the intergovernmental consultation process it will follow in the development of such regulations. 65 FR 13735. DOE has examined this proposed rule and has determined that it would not have a substantial direct effect on the States, on the relationship between the national government and the States, or on the distribution of power and responsibilities among the various levels of government. EPCA governs and prescribes Federal preemption of State regulations as to energy conservation for the products that are the subject of this proposed rule. States can petition DOE for exemption from such preemption to the extent, and based on criteria, set forth in EPCA. (42 U.S.C. 6297(d)) No further action is required by Executive Order 13132.

G. Review Under Executive Order 12988, “Civil Justice Reform”

Regarding the review of existing regulations and the promulgation of new regulations, section 3(a) of Executive Order 12988, “Civil Justice Reform,” 61 FR 4729 (Feb. 7, 1996), imposes on Federal agencies the general duty to adhere to the following requirements: (1) Eliminate drafting errors and ambiguity, (2) write regulations to minimize litigation, (3) provide a clear legal standard for affected conduct rather than a general standard, and (4) promote simplification and burden reduction. Section 3(b) of Executive Order 12988 specifically requires that Executive agencies make every reasonable effort to ensure that the regulation (1) clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General. Section 3(c) of Executive Order 12988 requires Executive agencies to review regulations in light of applicable standards in sections 3(a) and 3(b) to determine whether they are met, or it is unreasonable to meet one or more of them. DOE has completed the required review and determined that, to the extent permitted by law, the proposed rule meets the relevant standards of Executive Order 12988.

H. Review Under the Unfunded Mandates Reform Act of 1995

Title II of the Unfunded Mandates Reform Act of 1995 (UMRA) requires each Federal agency to assess the effects of Federal regulatory actions on State, local, and Tribal governments and the private sector. Public Law 104-4, sec. 201 (codified at 2 U.S.C. 1531). For a proposed regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. (2 U.S.C. 1532(a), (b)) The UMRA also requires a Federal agency to develop an effective process to permit timely input by elected officers of State, local, and Tribal governments on a proposed “significant intergovernmental mandate,” and requires an agency plan for giving notice and opportunity for timely input to potentially affected small governments before establishing any requirements that might significantly or uniquely affect small governments. On March 18, 1997, DOE published a statement of policy on its process for intergovernmental consultation under UMRA. 62 FR 12820; also available at http://energy.gov/gc/office-general-counsel. DOE examined this proposed rule according to UMRA and its statement of policy and determined that the rule contains neither an intergovernmental mandate, nor a mandate that may result in the expenditure of $100 million or more in any year, so these requirements do not apply.

I. Review Under the Treasury and General Government Appropriations Act, 1999

Section 654 of the Treasury and General Government Appropriations Act, 1999 (Pub. L. 105-277) requires Federal agencies to issue a Family Policymaking Assessment for any rule that may affect family well-being. This proposed rule would not have any impact on the autonomy or integrity of the family as an institution. Accordingly, DOE has concluded that it is not necessary to prepare a Family Policymaking Assessment.

J. Review Under Executive Order 12630

DOE has determined, under Executive Order 12630, “Governmental Actions and Interference with Constitutionally Protected Property Rights” 53 FR 8859 (March 18, 1988), that this proposed regulation would not result in any takings that might require compensation under the Fifth Amendment to the U.S. Constitution.

K. Review Under Treasury and General Government Appropriations Act, 2001

Section 515 of the Treasury and General Government Appropriations Act, 2001 (44 U.S.C. 3516 note) provides for agencies to review most disseminations of information to the public under guidelines established by each agency pursuant to general guidelines issued by OMB. OMB's guidelines were published at 67 FR 8452 (Feb. 22, 2002), and DOE's guidelines were published at 67 FR 62446 (Oct. 7, 2002). DOE has reviewed this proposed rule under the OMB and DOE guidelines and has concluded that it is consistent with applicable policies in those guidelines.

L. Review Under Executive Order 13211

Executive Order 13211, “Actions Concerning Regulations That Significantly Affect Energy Supply, Distribution, or Use,” 66 FR 28355 (May 22, 2001), requires Federal agencies to prepare and submit to OMB, a Statement of Energy Effects for any proposed significant energy action. A “significant energy action” is defined as any action by an agency that promulgated or is expected to lead to promulgation of a final rule, and that (1) is a significant regulatory action under Executive Order 12866, or any successor order; and (2) is likely to have a significant adverse effect on the supply, distribution, or use of energy; or (3) is designated by the Administrator of OIRA as a significant energy action. For any proposed significant energy action, the agency must give a detailed statement of any adverse effects on energy supply, distribution, or use should the proposal be implemented, and of reasonable alternatives to the action and their expected benefits on energy supply, distribution, and use.

The proposed regulatory action to establish a labeling requirement for DPPP motors would not have a significant adverse effect on the supply, distribution, or use of energy, nor has it been designated as a significant energy action by the Administrator of OIRA. Therefore, it is not a significant energy action, and, accordingly, DOE has not prepared a Statement of Energy Effects.

M. Review Under Section 32 of the Federal Energy Administration Act of 1974

Under section 301 of the Department of Energy Organization Act (Pub. L. 95-91; 42 U.S.C. 7101), DOE must comply with section 32 of the Federal Energy Administration Act of 1974, as amended by the Federal Energy Administration Authorization Act of 1977. (15 U.S.C. 788; FEAA) Section 32 essentially provides in relevant part that, where a proposed rule authorizes or requires use of commercial standards, the notice of proposed rulemaking must inform the public of the use and background of such standards. In addition, section 32(c) requires DOE to consult with the Attorney General and the Chairman of the Federal Trade Commission (FTC) concerning the impact of the commercial or industry standards on competition.

The proposed labeling requirement for DPPP motors would require that the nameplate disclose the energy efficiency of a DPPP motor as determined by the proposed test procedure and that the equipment catalog and other marketing materials also include the energy efficiency of the DPPP motor. In addition, the proposed labeling requirement for DPPP motors would require a statement regarding certification to the commercial standard UL 1004-10:2019. DOE has evaluated this standard and is unable to conclude whether it fully complies with the requirements of section 32(b) of the FEAA (i.e., whether it was developed in a manner that fully provides for public participation, comment, and review.) DOE will consult with both the Attorney General and the Chairman of the FTC concerning the impact of these test procedures on competition, prior to prescribing a final rule.

N. Description of Materials Incorporated by Reference

In this NOPR, DOE proposes to incorporate by reference the test standard published by CSA, titled, Energy Efficiency Test Methods for Small Motors, CSA C747-09 (reaffirmed in 2014). CSA C747-09 is an industry-accepted test procedure that measures the energy efficiency of certain motors, and is applicable to pool pump motors in scope sold in North America. The test procedure proposed in this NOPR references various sections of CSA C747-09 that address test setup, instrumentation, test conduct, and calculations. CSA C747-09 is readily available at CSA's website at https://webstore.ansi.org/standards/csa/csac74709.

In this NOPR, DOE also proposes to incorporate by reference the standard published by UL, titled, Outline of Investigation for Pool Pump Motors, UL 1004-10:2019. UL 1004-10:2019 establishes definitions and marking requirements for certain pool pump motors and describes methods to verify the information conveyed by those required markings. The labeling requirements proposed in this NOPR are based on UL 1004-10 in accordance with the recommendations from the Joint Petitioners. UL 1004-10 is readily available at UL's website at https://www.shopulstandards.com/ProductDetail.aspx?UniqueKey=36019.

V. Public Participation

A. Participation in the Webinar

The time and date of the webinar are listed in the DATES section at the beginning of this document. Webinar registration information, participant instructions, and information about the capabilities available to webinar participants will be published on DOE's website: https://www1.eere.energy.gov/buildings/appliance_standards/standards.aspx?productid=67. If you plan to attend the webinar, please notify the Appliance and Equipment Standards Program staff at (202) 287-1445 or by email: Appliance_Standards_Public_Meetings@ee.doe.gov. Participants are responsible for ensuring their systems are compatible with the webinar software.

Additionally, you may request an in-person meeting to be held prior to the close of the request period provided in the DATES section of this document. Requests for an in-person meeting may be made by contacting Appliance and Equipment Standards Program staff at (202) 287-1445 or by email: Appliance_Standards_Public_Meetings@ee.doe.gov.

Please note that foreign nationals participating in the public meeting are subject to advance security screening procedures which require advance notice prior to attendance at the public meeting. If a foreign national wishes to participate in the public meeting, please inform DOE of this fact as soon as possible by contacting Ms. Regina Washington at (202) 586-1214 or by email: Regina.Washington@ee.doe.gov so that the necessary procedures can be completed.

B. Submission of Comments

DOE will accept comments, data, and information regarding this proposed rule no later than the date provided in the DATES section at the beginning of this proposed rule. Interested parties may submit comments using any of the methods described in the ADDRESSES section at the beginning of this proposed rule.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Persons viewing comments will see only first and last names, organization names, correspondence containing comments, and any documents submitted with the comments.

Do not submit to http://www.regulations.gov information for which disclosure is restricted by statute, such as trade secrets and commercial or financial information (hereinafter referred to as Confidential Business Information (CBI)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery/courier, or postal mail. Comments and documents submitted via email, hand delivery/courier, or postal mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via postal mail or hand delivery/courier, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery/courier two well-marked copies: One copy of the document marked confidential including all the information believed to be confidential, and one copy of the document marked non-confidential with the information believed to be confidential deleted. Submit these documents via email or on a CD, if feasible. DOE will make its own determination about the confidential status of the information and treat it according to its determination.

It is DOE's policy that all comments may be included in the public docket, without change and as received, including any personal information provided in the comments (except information deemed to be exempt from public disclosure).

C. Issues on Which DOE Seeks Comment

Although DOE welcomes comments on any aspect of this proposal, DOE is particularly interested in receiving comments and views of interested parties concerning the following issues:

(1) DOE requests comments on its proposal to establish a test procedure and labeling requirement for DPPP motors with a total horsepower of less than or equal to 5 THP, with the exception of: Polyphase motors capable of operating without a drive and distributed in commerce without a drive that converts single-phase power to polyphase power; waterfall pump motors; rigid electric spa pump motors; storable electric spa pump motors; integral cartridge-filter pool pump motors; and integral sand-filter pool pump motors.

(2) DOE requests comment on its proposal to incorporate by reference the definitions included in UL 1004-10:2019.

(3) DOE requests comment on the proposed use of the term “manufacturer's model number” as defined at 10 CFR 431.2 for the purpose of reporting.

(4) DOE requests comments on its proposal to incorporate by reference CSA C747-09 as the prescribed test method for evaluating the energy efficiency of DPPP motors.

(5) DOE requests comments on its proposal to use full load efficiency as the energy efficiency metric for pool pump motors.

(6) DOE seeks comment on the proposed requirement for DPPP motor manufacturers to label each DPPP motor with its measured energy efficiency on the motor's nameplate and to include that same information in marketing materials and catalogs, in addition to a statement indicating certification to UL 1004-10:2019, if applicable. Further, DOE seeks comment on whether this requirement is technologically and economically feasible, likely to result in significant energy savings, and likely to assist consumers in making purchasing decisions.

(7) DOE seeks data from manufacturers (and any other interested parties) regarding the cost of implementing the proposed labeling requirement.

(8) DOE also seeks comment on the degree to which the proposed labeling requirement should consider and be harmonized further with UL 1004-10:2019 or other relevant industry standards for DPPP motors, and whether any changes to the proposed Federal labeling requirement would provide additional benefits to the public. DOE also requests comment on the benefits and burdens of adopting any industry/voluntary consensus-based or other appropriate labeling requirements, without modification.

(9) DOE also requests comment on the proposal not to require that the statement “Certified to UL 1004-10:2019” be included in catalogs that sell a DPPP motor that are certified to UL 1004-10:2019, and not to require manufacturers to submit a certification report to DOE regarding a motor's compliance with UL 1004-10:2019, if applicable.

(10) DOE requests comment on the tentative conclusion that there are no impacts and associated costs of incorporating by reference UL 1004-10:2019.

(11) DOE requests comment on the tentative conclusion that there are no impacts and associated costs of incorporating by reference CSA C747-09 as the test procedure for DPPP motors.

(12) DOE seeks comment on its understanding of the estimated impact and associated costs to DPPP motor manufacturers from the proposed nameplate labeling requirement.

(13) DOE seeks comment on its understanding of the estimated impact and associated costs to DPPP motor manufacturers due to the proposed equipment catalog and marketing material updates.

(14) DOE seeks comment on its understanding of the estimated impact and associated costs to DPPP motor manufacturers due to the proposed reporting requirement.

(15) DOE seeks comment on its initial conclusion regarding the existence of only one small business (i.e. one with fewer than 1,250 total employees) that manufactures DPPP motors in the United States. Additionally, DOE seeks comment on its initial conclusion that this proposal would not have a significant economic impact on this one small business.

(16) DOE requests comment on its estimates of the total annual hour and cost burdens resulting from collection of information requirement for the labeling, disclosure, and reporting proposal.

VI. Approval of the Office of the Secretary

The Secretary of Energy has approved publication of this proposed rule.

List of Subjects in 10 CFR Part 431

Administrative practice and procedure, Confidential business information, Energy conservation test procedures, Incorporation by reference, Reporting and recordkeeping requirements.

Signing Authority

This document of the Department of Energy was signed on August 28, 2020, by Daniel R Simmons, Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 28, 2020.
Treena V. Garrett,
Federal Register Liaison Officer, U.S. Department of Energy.

For the reasons stated in the preamble, DOE is proposing to amend part 431 of Chapter II of Title 10, Code of Federal Regulations as set forth below:

PART 431—ENERGY EFFICIENCY PROGRAM FOR CERTAIN COMMERCIAL AND INDUSTRIAL EQUIPMENT

1. The authority citation for part 431 continues to read as follows:

Authority: 42 U.S.C. 6291-6317; 28 U.S.C. 2461 note.

2. Section 431.11 is amended by adding a sentence at the end of the section.

§ 431.11 Purpose and scope.

* * * This subpart does not cover electric motors that are `dedicated-purpose pool pump motors,' which are addressed in subpart Z of this part.

3. Section 431.441 is amended by adding a sentence at the end of the section.

§ 431.441 Purpose and scope.

* * * This subpart does not cover electric motors that are `dedicated-purpose pool pump motors,' which are addressed in subpart Z of this part.

4. Add subpart Z, consisting of §§ 431.481 through 431.486, to read as follows:

Subpart Z—Dedicated-Purpose Pool Pump Motors
Sec.
431.481 Purpose and scope.
431.482 Materials incorporated by reference.
431.483 Definitions.
431.484 Test procedure.
431.485 Labeling and representation requirement.
431.486 Reporting requirement.

§ 431.481 Purpose and scope.

(a) Purpose. This subpart contains definitions, test procedures, labeling, and reporting requirements for electric motors that are dedicated-purpose pool pump motors, pursuant to Part A-1 of Title III of the Energy Policy and Conservation Act, as amended, 42 U.S.C. 6311-6317. It also identifies materials incorporated by reference in this part. This subpart does not cover other “electric motors,” which are addressed in subpart B of this part, nor does it cover “small electric motors,” which are addressed in subpart X of this part.

(b) Scope. The requirements of this subpart apply to dedicated-purpose pool pump motors, as specified in paragraphs 1.2, 1.3 and 1.4 of UL 1004-10:2019 (incorporated by reference, see § 431.482).

§ 431.482 Materials incorporated by reference.

(a) General. We incorporate by reference the following standards into subpart Z of part 431. The material listed has been approved for incorporation by reference by the Director of the Federal Register in accordance with 5 U.S.C. 552(a) and 1 CFR part 51. Any subsequent amendment to a standard by the standard-setting organization will not affect the DOE definitions, test procedures, or labeling requirements prescribed under subpart Z unless and until DOE amends its definitions, test procedures, or labeling requirements for the equipment addressed by this subpart. DOE incorporates the material as it exists on the date of the approval and a notification of any change in the material will be published in the Federal Register. Standards can be obtained from the sources below. All approved material is available for inspection at U.S. Department of Energy, Office of Energy Efficiency and Renewable Energy, Building Technologies Program, Sixth Floor, 950 L'Enfant Plaza SW, Washington, DC 20024, (202) 586-2945, or go to http://www1.eere.energy.gov/buildings/appliance_standards. It is also available at the National Archives and Records Administration (NARA). For information on the availability of this material at NARA, email: fedreg.legal@nara.gov, or go to: www.archives.gov/federal-register/cfr/ibr-locations.html.

(b) CSA. Canadian Standards Association, Sales Department, 5060 Spectrum Way, Suite 100, Mississauga, Ontario, L4W 5N6, Canada, 1-800-463-6727, or http://www.shopcsa.ca/

(1) CSA C747-09 (R2014) (“CSA C747-09”), “Energy efficiency test method for small motors” (October 2009); IBR approved for § 431.484.

(2) [Reserved]

(c) UL. Underwriters Laboratories, 333 Pfingsten Road, Northbrook, IL 60062, or go to https://www.ul.com.

(1) UL 1004-10:2019, “Outline of Investigation for Pool pump motors” (July 2019); IBR approved for §§ 431.481, and 431.483 .

(2) [Reserved]

§ 431.483 Definitions.

The definitions applicable to this subpart are defined in UL 1004-10:2019 (incorporated by reference, see § 431.482).

§ 431.484 Test procedures.

(a) Scope. Pursuant to section 343(a) of EPCA, this section provides the test procedures for measuring the efficiency of dedicated-purpose pool pump motors. (42 U.S.C. 6314) For purposes of part 431 and EPCA, the test procedures for measuring the efficiency of dedicated-purpose pool pump motors shall be the test procedure specified in paragraph (b) of this section.

(b) Testing and Calculations. Beginning [Date that is 180 days following publication of a final rule] determine the full load efficiency of each dedicated-purpose pool pump motor model by using CSA C747-09 (incorporated by reference, see § 431.482).

§ 431.485 Labeling and Representation requirement.

(a) Electric motor nameplate—(1) Required information. Beginning [Date that is 12 months following publication of a final rule] the permanent nameplate of a dedicated-purpose pool pump motor must be marked clearly with the following information:

(i) The full load efficiency of the motor model as determined pursuant to the test procedure prescribed under § 431.484(b); and

(ii) For those motors that are certified to UL 1004-10:219, the following statement: “Certified to UL 1004-10:2019”.

(2) Display of required information. All orientation, spacing, type sizes, type faces, and line widths to display this required information shall be the same as or similar to the display of the other performance data on the motor's permanent nameplate.

(b) Disclosure of efficiency information in marketing materials. Beginning [DATE 12 MONTHS AFTER DATE OF PUBLICATION OF FINAL RULE IN THE Federal Register] the energy efficiency information of the dedicated-purpose pool pump motor that appears on its nameplate, shall be prominently displayed:

(1) On each page of catalogs that list the motor as an offering for sale by the motor's manufacturer; and

(2) In all other materials used to market the motor.

(c) Representations. Representations of full load efficiency on the nameplate of a motor and in marketing materials must be based on the testing as prescribed under § 431.484(b) of a minimum of one dedicated-purpose pool pump motor that is manufactured by the same manufacturer, has the same total horsepower, has electrical characteristics that are essentially identical, and does not have any differing physical or functional characteristics regarding the operating speed. If the representation is based on a single test, any represented value of full load efficiency must be less than or equal to the measured full load efficiency of the tested unit. If the representation is based on more than one test, any represented value of full load efficiency must be less than or equal to the lower of:

(1) The mean of the sample X which is defined by

where Xi is the measured full load efficiency of unit i and n is the number of units tested; or,

(2) The lower 95 percent confidence limit (LCL) of the true mean divided by 0.95,

where:

And X is the sample mean, s is the sample standard deviation; n is the number of samples; and t0.95 is the t statistic for a 95 percent one-tailed confidence interval with n-1 degrees of freedom (from appendix A to subpart B of part 429 of this chapter).

§ 431.486 Reporting requirement.

(a) Submission of notification prior to compliance date. On or after DATE 12 MONTHS AFTER DATE OF PUBLICATION OF FINAL RULE IN THE FEDERAL REGISTER and prior to [DATE 14 MONTHS AFTER DATE OF PUBLICATION OF FINAL RULE IN THE FEDERAL REGISTER] each manufacturer (other than an importer) of a dedicated-purpose pool pump motor subject to the labeling requirement at § 431.485 must submit a notification report for all such dedicated-purpose pool pump motors in production as of [DATE 14 MONTHS AFTER DATE OF PUBLICATION OF FINAL RULE IN THE Federal Register]. The notification report must comply with the requirements in paragraph (c) of this section and be submitted in accordance with paragraph (e) of this section.

(b) Submission of notification report on and after the compliance date. For a dedicated-purpose pool pump motor subject to the labeling requirement at § 431.485 produced after [DATE 14 MONTHS AFTER DATE OF PUBLICATION OF FINAL RULE IN THE FEDERAL REGISTER] for which the manufacturer's model number has not previously been reported, a manufacturer must submit a notification report. The notification report must comply with the requirements in paragraph (c) of this section and be submitted in accordance with paragraph (e) of this section prior to commencement of production of such dedicated-purpose pool pump motor. Any date prior to distribution in commerce for sale will be deemed prior to production.

(c) Notification report. A notification report must contain the following information:

(1) The manufacturer's name and address;

(2) The manufacturer's model number(s) of the dedicated-purpose pool pump motor(s) subject to the labeling requirement at § 431.485;

(3) For each reported model number:

(i) Whether the motor model is certified to UL 1004-10:2019;

(ii) The full load efficiency of the motor model as determined pursuant to the test procedure prescribed under § 431.484(b), and

(iii) If the motor model is certified to UL 1004-10:2019, the total horsepower and speed configuration of the motor as represented on the nameplate pursuant to the UL 1004-10:2019 certification;

(4) The date, the name of the company official signing the statement, and his or her signature, title, address, telephone number, and email address; and

(5) The following compliance statement, “All information reported in the report is true, accurate, and complete. The manufacturer is aware of the penalties associated with violations of the Energy Policy and Conservation Act, as amended (42 U.S.C. 6291-6317), the regulations thereunder, and 18 U.S.C. 1001, which prohibits knowingly making false statements to the Federal Government.”

(d) Third party submitters. A manufacturer may elect to use a third party to submit the notification report to DOE (for example, a trade association, independent test lab, or other authorized representative, including a private labeler acting as a third party submitter on behalf of a manufacturer); however, the manufacturer is responsible for submission of the notification report to DOE. The third party submitter must complete the compliance statement as part of the notification report. Each manufacturer using a third party submitter must have an authorization form on file with DOE. The authorization form includes the compliance statement as specified in paragraph (c)(4) of this section, specifies the third party authorized to submit notification reports on the manufacturer's behalf, and provides the contact information and signature of a company official of the manufacturer.

(e) Method of submission. Reports required by this section must be submitted to DOE electronically at http://www.regulations.doe.gov/ccms (CCMS). A manufacturer or third party submitter can find reporting templates for DPPP motors online at https://www.regulations.doe.gov/ccms/templates.html. Manufacturers and third party submitters must submit a registration form, signed by an officer of the company, in order to obtain access to CCMS.

[FR Doc. 2020-19407 Filed 10-2-20; 8:45 am]

BILLING CODE 6450-01-P